FEDERAL COMMUNICATIONS COMMISSION

47 CFR Parts 2 and 25

[IB Docket No. 17-95; FCC 18-138]

Earth Stations in Motion

AGENCY: Federal Communications Commission.

ACTION: Final rule.

SUMMARY: In this document, the Federal Communications Commission (Commission) amends its rules to facilitate the deployment of earth stations in motion (ESIMs) communicating with geostationary (GSO) fixed-satellite service (FSS) satellite systems.

DATES: This rule is effective: October 8, 2019.

ADDRESSES: You may submit comments, identified by IB Docket No. 17-95, by any of the following methods:

• Federal Communications Commission's Website: http://apps.fcc.gov/ecfs. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Cindy Spiers, 202-418-1593.

SUPPLEMENTARY INFORMATION: This is a summary of the Commission's Report and Order (R&O), IB Docket No. 17-95, FCC 18-138, adopted on September 26, 2018, and released on September 27, 2018. The full text of this document is available at https://apps.fcc.gov/edocs_public/attachmatch/FCC-18-138A1.pdf. The full text of this document is also available for inspection and copying during business hours in the FCC Reference Information Center, Portals II, 445 12th Street SW, Room CY-A257, Washington, DC 20554. To request materials in accessible formats for people with disabilities, send an email to FCC504@fcc.gov or call the Consumer & Governmental Affairs Bureau at 202-418-0530 (voice), 202-418-0432 (TTY).

Paperwork Reduction Act

This document contains new and modified information collection requirements. The Commission has received approval from the Office of Management and Budget (OMB) for the information collection requirements contained in this document, as required by the Paperwork Reduction Act of 1995, Public Law 104-13. OMB approval was received on July 17, 2019 for OMB control number 3060-0678. In addition, we previously sought comments from the public on how the Commission might further reduce the information collection burden for small business concerns with fewer than 25 employees pursuant to the Small Business Paperwork Relief Act of 2002, Public Law 107-198, see 44 U.S.C. 3506(c)(4).

Synopsis

In this Report and Order (R&O), the Commission simplifies its rules to facilitate the continued deployment of Earth Stations in Motion (ESIMs) and reduce the regulatory burdens on ESIMs. First, we reorganize and consolidate the sections in part 25 of the Commission's rules, including technical and operational as well as application rules, for the three types of Fixed-Satellite Service (FSS) earth stations that the Commission authorizes to transmit while in motion: Earth Stations on Vessels (ESVs), Vehicle-Mounted Earth Stations (VMESs), and Earth Stations Aboard Aircraft (ESAAs), collectively known as ESIMs. Second, we amend our rules to allow the operation of ESIMs in the conventional Ka-band. Specifically, our rules apply to ESIMs communicating with geostationary-orbit (GSO) FSS space stations operating in 18.3-18.8 GHz and 19.7-20.2 GHz (space-to-Earth), and 28.35-28.6 GHz and 29.25-30.0 GHz (Earth-to-space) frequency bands. The new rules create regulatory equity by adopting a regulatory regime for ESIM operations in the conventional Ka-band similar to that which currently exists in the conventional C-band, the conventional Ku-band, and in portions of the extended Ku-band.¹

¹ The “conventional C-band” refers to the 3700-4200 MHz (space-to-Earth) and 5925-6425 MHz (Earth-to-space) FSS frequency bands. See 47 CFR 25.103. The “conventional Ku-band” refers to the 11.7-12.2 GHz (space-to-Earth) and 14.0-14.5 GHz (Earth-to-space) FSS frequency bands, and the “extended Ku-band” refers to the 10.95-11.2 GHz, 11.45-11.7 GHz, and 13.75-14.0 GHz bands.

Report and Order

Commenters generally applaud the Commission for its decision to consolidate ESIMs regulations into a single rule section.² AC BidCo urges the Commission to implement these revisions to eliminate redundancy in its rules and provide a unified framework for all ESIM operations.³ Many commenters also support the proposed technical and operational changes. Several parties support extending the routine licensing of ESIMs into the Ka-band.⁴ Iridium, however, expresses concerns with this proposal,⁵ which are addressed below. As discussed in this decision, we generally adopt many of the changes proposed in the ESIMS NPRM.

² See, e.g., Boeing Comments at 1; Inmarsat Comments at 8; Joint Commenters of Kymeta Corporation and Intelsat License LLC (Joint Comments) at 1; and ViaSat Comments at 1.

³ AC BidCo Comments at 2. AC BidCo holds an ESAA license that is used by its affiliate Gogo Inc to provide inflight connectivity and wireless entertainment services for commercial and business fleets around the world. Id. at 1-2.

⁴ See, e.g., Inmarsat Reply Comments at 1.

⁵ Iridium Comments at 12.

We proposed to bring all the technical, operational and coordination requirements for blanket licensed-ESV, VMES and ESAA earth stations that are linked to GSO FSS space stations under one umbrella rule section, § 25.228, applicable to ESIMs generally. We grouped ESIM requirements into the following categories: (1) Core rules (i.e. those applicable to all ESIMs); (2) vehicle-type specific ⁶ rules that apply across multiple frequency bands; (3) frequency-band specific status and coordination rules; and (4) vehicle-type specific rules that apply to a single frequency band. In this Order, we adopt changes within all of these subparts to accomplish our goal of simplifying and streamlining the ESIMs rules.

⁶ “Vehicle-type specific” means applicable only to ESAA, to ESV, or to VMES.

Following the structure of the ESIMs NPRM, we first address proposals involving changes in more than one rule section and then address proposed changes in the remaining rules in the order in which they appear in part 25.

Definitions

As proposed in the ESIMs NPRM, we amend several current definitions and add new definitions to our rules to provide greater clarity regarding the operation of earth stations in motion with GSO FSS space stations.⁷ In response to the proposed changes to the definitions in the NPRM, commenters uniformly support the changes discussed below.

⁷ See NPRM, 32 FCC Rcd at 4242-43, paras. 8-14.

Definition of ESIMs. We adopt a definition for ESIMs in § 25.103.⁸ ESIM is defined to mean a term that collectively designates ESVs, VMESs and ESAAs, which are already defined in § 25.103.⁹

⁸ 47 CFR 25.103.

⁹ Id.

Revised Definition of Blanket License. We adopt the proposal to change the definition of Blanket License in § 25.103 to refer to the type of satellite service in which the earth station operates, i.e., FSS or MSS rather than the type of earth station, i.e., fixed or mobile.¹⁰ Changing the earth-station categorization in this definition to FSS and MSS better reflects the types of stations that can be licensed to operate anywhere in a geographic area specified in the license. Additionally, we adopt other minor rewording for clarity.

¹⁰ NPRM, 32 FCC Rcd at 4242-43, para. 10.

Definition of Network Control and Monitoring Center (NCMC). We also adopt the proposed definition of Network Control and Monitoring Center in § 25.103.¹¹ An NCMC, as used in the part 25 rules, is a facility that has the capability to remotely control earth stations operating as part of a satellite network or system.¹²

¹¹ Id. at 4243, para. 11.

¹² As such, an NCMC would constitute a “remote control point” as that term is used in the part 25 rules (see, e.g., 47 CFR 25.271(b), 25.272(d)(1)).

Eliminating Cross-References in Revised Definitions. We revise the definitions of VMES and ESAA to eliminate cross-references to rule sections (§§ 25.226 and 25.227 respectively) that we are deleting in this Report and Order.¹³ Similarly, any cross-references to those deleted sections elsewhere in the rules are deleted as well.¹⁴ Furthermore, we revise the definitions of routine processing and a two-degree compliant space station in § 25.103 to remove a cross-reference to § 25.138(a), because we are consolidating § 25.138(a) into § 25.218(i), as explained below.

¹³ The technical and operational rules in §§ 25.226 and 25.227 are being consolidated in § 25.228, and the application rules are being consolidated in § 25.115. See paras. 0-0 and 67-0 infra.

¹⁴ While we also moved the §§ 25.221 and 25.222 operating requirements for ESVs under the same umbrella that covers VMESs and ESAAs (i.e., the umbrella of the proposed § 25.228 for ESIMs), the § 25.103 definition of ESVs does not need to be revised to eliminate any outdated cross-references because it does not now contain any cross-references.

Incorporating § 25.138 Into § 25.218, and Extending the Applicability of § 25.218 to the Conventional Ka-Band and ESIMs

In the ESIMs NPRM, the Commission proposed moving the conventional Ka-band provisions from § 25.138 into similar paragraphs of § 25.218.¹⁵ The Commission also proposed applying § 25.218 to all applications for fixed and temporary-fixed FSS earth stations transmitting to geostationary space stations in the conventional or extended C-band or Ku-band, or the conventional Ka-band, and to all applications for ESIMs in the conventional C-, Ku-, or Ka-band,¹⁶ except for applications proposing transmission of analog command signals at a band edge with bandwidths greater than 1 MHz or transmission of any other type of analog signals with bandwidths greater than 200 kHz.¹⁷ Section 25.218 contains off-axis equivalent isotropically radiated power (EIRP) density envelopes for FSS earth stations transmitting to GSO FSS space stations in the conventional C-band, extended C-band, conventional Ku-band, or extended Ku-band.¹⁸ Earth stations in these frequency bands that comply with these envelopes are considered “two-degree-spacing compliant,” and the operators of their target space stations are not required to coordinate the operation of these earth stations with operators of nearby space stations. As proposed in the NPRM,¹⁹ we merge the off-axis EIRP density provisions of § 25.138 into § 25.218, thus extending the applicability of § 25.218 to conventional Ka-band GSO FSS earth stations.²⁰ Commenters support adoption of a consolidated rule that eliminates duplicative references to the off-axis EIRP spectral density limits and that would apply a single set of limits across all types of FSS earth station, including those on mobile platforms.²¹

¹⁵ NPRM, 32 FCC Rcd at 4243-44, para. 15.

¹⁶ See 47 CFR 25.103. The “extended C-band” refers to the 600-3700 MHz (space-to-Earth), 5850-5925 MHz (Earth-to-space), and 6425-6725 MHz (Earth-to-space) FSS frequency bands, and the “conventional Ka-band” refers to the 18.3-18.8 GHz (space-to-Earth), 19.7-20.2 GHz (space-to-Earth), 28.35-28.6 GHz (Earth-to-space), and 29.25-30.0 GHz (Earth-to-space) frequency bands, which the Commission has designated as primary for GSO FSS operation. Id.

¹⁷ Id. at para. 18.

¹⁸ We note that the rules do not currently provide for ESIM operations in the extended C- band.

¹⁹ NPRM, 32 FCC Rcd at 4243-44, para. 15.

²⁰ See 47 CFR 25.218(i). This consolidation of rules does not involve any change to existing off-axis EIRP spectral density limits.

²¹ See, e.g., Boeing Comments at 3; Inmarsat Comments at 3; and ViaSat Comments at 5-6.

Similarly, for organizational coherence, the Commission proposed making the conventional Ka-band requirements in § 25.138(f), which hold blanket licensees responsible for operations of transceivers operating under their license, applicable to earth station licensees in all frequency bands.²² We will place this requirement in new § 25.290,²³ and eliminate the cross-reference to § 25.138.²⁴ The Commission proposed that § 25.290 would also include the rule contained in § 25.287(d), which imposes the same requirement on licensees of mobile transmitters or transceivers operating in some Mobile-Satellite Service frequencies, allowing that that § 25.287(d) be removed.²⁵ Commenters broadly support these streamlining reorganizational moves which we adopt.²⁶

²² NPRM, 32 FCC Rcd at 4244, para. 17.

²³ In the NPRM, we proposed placing the requirements in new § 25.289. See NPRM, 32 FCC Rcd at 4244 para. 17. Because the Commission subsequently used § 25.289 to adopt rules governing the protection of GSO networks by NGSO systems, we instead adopt these requirements as part of new § 25.290.

²⁴ 47 CFR 25.290.

²⁵ We also proposed to retain the exception for analog video earth station applications.

²⁶ See, e.g., Inmarsat Comments at 3.

Reorganizing and Streamlining the Technical, Operational and Coordination Requirements

Core ESIM Rules

In the ESIMs NPRM, the Commission sought comment on combining the core ESIMs rules that were essentially the same for each type of ESIM.²⁷ As both Boeing and the Joint Commenters note, the “core” rules governing ESVs, VMESs, and ESAAs are nearly but not quite identical, which creates unnecessary confusion for applicants and operators.²⁸ The Commission proposed to amend the core rules, where necessary, to create uniformity. Specifically, for rules related to the Commission's GSO FSS two-degree orbital spacing policy, control of operating ESIMs, operational reports, and electromagnetic radiation safety, the Commission proposed substantive changes in some cases to eliminate unnecessary variations across types of ESIMs.²⁹ As proposed in the NPRM, we also eliminate unnecessary duplication of rules across different rule sections.³⁰ These changes are widely applauded by commenters.³¹ In the discussion to follow, we explain the substantive changes to the following areas of our ESIM rules: (1) Antenna pointing accuracy requirements, (2) EIRP density limits, (3) the self-monitoring (self-diagnostics) requirement, (4) the network control and monitoring center requirement, (5) logging requirements, and (6) the installation requirements related to radiation safety.

²⁷ NPRM, 32 FCC Rcd at 4245, para. 20.

²⁸ See Boeing Comments at 2; Joint Commenters at 3.

²⁹ NPRM, 32 FCC Rcd at 4245-52, section C.

³⁰ Id. at 4243-44, paras. 19-20.

³¹ See, e.g., AC BidCo Comments at 2; Inmarsat Comments at 2; Joint Commenters at 1; Telesat Comments at 2-3; ViaSat Comments at 4-5.

Antenna Pointing Accuracy Requirement. As explained in the ESIMs NPRM, the definition of theta as revised by the 2015 Second Report and Order obviates the need for an antenna pointing accuracy requirement, because the limit on off-axis EIRP density toward adjacent satellites is fixed regardless of the direction in which the earth station antenna is pointed.³² Therefore, the Commission proposed to eliminate the antenna pointing accuracy requirement contained in the individual ESV, VMES, and ESAA rules in §§ 25.221, 25.222, 25.226, and 25.227.³³ Most commenters support eliminating this requirement.³⁴ ViaSat notes that it is now well-established in the industry and in the Commission's precedent that GSO FSS spectrum resources can be used for service to mobile platforms without adversely changing the operating environment created by a traditional FSS earth station.³⁵ ViaSat further states that “commercially available pointing mechanisms enable transmissions from these earth stations to remain focused on the desired GSO FSS space station even while the earth station is mounted on a moving platform. These technologies have been proven to be reliable through almost two decades of successful coexistence.” ³⁶

³² NPRM, 32 FCC Rcd at 4246, para. 22 (referencing Comprehensive Review of Licensing and Operating Rules for Satellite Services, IB Docket No. 12-267, Second Report and Order, 30 FCC Rcd 14713, 14755, para. 115 (2015) (2015 Second Report and Order)). This is the same as the approach taken by the ITU in Resolution 156 (WRC-15), which prescribes the operating conditions for ESIMs communicating with FSS space stations in the 19.7-20.2 GHz and 29.5-30 GHz frequency bands. In that resolution, the off-axis angle theta is defined as the angle “from the vector from the earth station antenna to the associated satellite.” See Final Acts of WRC-15 at 248. Resolution 156 does not contain any antenna pointing accuracy requirements, because its off-axis EIRP density limits, like those in § 25.218 of the Commission's rules, are independent of the direction the ESIM antenna is pointed. See id. at 4246, fn. 33.

³³ NPRM, 32 FCC Rcd at 4246, para. 22. As noted in the NPRM, the definition of theta was revised by the 2015 Second Report and Order. The definition in §§ 25.221, 25.222, 25.226, and 25.227 paragraph (a)(1)(i)(A) formerly read “theta (θ) is the angle in degrees from the line connecting the focal point of the antenna to the orbital location of the target satellite.” The minor rewording of the definition takes into account the fact that not all earth stations use feedhorn-reflector type antennas with focal points, and the fact that earth station antennas pointed toward GSO FSS satellites are usually pointed to the assigned location of the satellite, and do not track the actual position of the target satellite at any given time. The same definition of theta is now used in § 25.209, 47 CFR 25.209. See id. at 4246, fn. 32.

³⁴ AC BidCo Comments at 3-4; Hughes Comments at 3; Inmarsat Comments at 3; Joint Commenters at 4; ViaSat Comments at 4, 7.

³⁵ ViaSat Comments at 2.

³⁶ ViaSat Comments at 7.

We adopt the proposal to eliminate the antenna pointing requirement. ESIM transmissions must remain within our off-axis EIRP density limits under all operating conditions. As discussed above,³⁷ these limits are specified at off-axis angles measured with respect to a vector from the earth station to the target satellite, not with respect to the direction the antenna is pointed. Thus, it is unnecessary for the Commission to prescribe limits on ESIM antenna pointing accuracy. By eliminating the antenna pointing accuracy requirement but maintaining the off-axis EIRP density limits, we give ESIM operators more flexibility in anomalous situations, because they can meet the off-axis EIRP density limits either by maintaining accurate antenna pointing or by reducing EIRP density when the antenna is mispointed, while continuing to protect adjacent-band operations.³⁸

³⁷ See para. 0 and n.9 supra.

³⁸ Joint Commenters Comments at 4.

Off-Axis EIRP Density Limits. In the ESIMs NPRM, the Commission noted that the off-axis EIRP density limits rule, § 25.218, applied to applications for GSO FSS earth stations at fixed locations, but specifically excepted applications for ESVs, VMESs, and ESAAs.³⁹ However, the numerical EIRP density limits over each specified angular range and the definition of θ in § 25.218 are the same as those for the same frequency bands in the individual ESIM §§ 25.221, 25.222, 25.226, and 25.227. Thus, to streamline the ESIMs rules, we cross-reference the off-axis EIRP density limits that already exist in § 25.218. And because the conventional Ka-band off-axis EIRP density limits currently in § 25.138 are merged into § 25.218, we only need to cross-reference § 25.218 to cover all of the frequency bands in which our rules provide for ESIM operations. Most commenters are in favor of these changes.⁴⁰

³⁹ NPRM, 32 FCC Rcd at 4247, para. 23.

⁴⁰ See, e.g., Boeing Comments at 3; Inmarsat Comments at 3; ViaSat Comments at 5-6; AC BidCo Reply Comments at 2.

One commenter, CTIA, expresses concern that relaxing the off-axis EIRP density limits may unintentionally limit the ability for FSS and Upper Microwave Flexible Use Service (UMFUS) to coexist.⁴¹ CTIA asserts that knowledge of the precise off-axis EIRP density from an FSS earth station is a key component in determining the interference margin between ESIMs in the presence of terrestrial operations in the adjacent spectrum bands.⁴² CTIA's concerns, however, are misplaced since the Commission is not relaxing the off-axis EIRP density limits for ESIMs.

⁴¹ CTIA Reply Comments at 4.

⁴² Id.

Shutdown Requirements. The shutdown requirements contained in the individual ESIM sections require cessation of emissions for ESV, VMES, and ESAA transmitters based on detection of antenna mispointing.⁴³ Consistent with the proposed changes regarding antenna mispointing, the Commission proposed to replace the shutdown requirements with provisions in paragraphs (b) and (c) of § 25.228 requiring cessation or reduction of emissions in the event that the ESIM or its associated network control and monitoring system detects that the ESIM has exceeded or is about to exceed the off-axis EIRP density limits.⁴⁴ Commenters generally support this proposal, which we adopt.⁴⁵

⁴³ See paragraphs (a)(1)(iii) of §§ 25.221, 25.222, 25.226, and 25.227.

⁴⁴ NPRM, 32 FCC Rcd at 4247, para. 25.

⁴⁵ Inmarsat supports the Commission's proposed shutdown and monitoring requirements, but it disagrees that ESIM applicants should have to “demonstrate how that requirement will be met. Inmarsat Comments at 4. This is discussed further in paras. 0-0 infra. See also Joint Commenters Comments at 4; ViaSat Reply Comments at 2 (concurring with Inmarsat's comments).

Contention Protocols. The Commission proposed that § 25.228 would not include the requirement in paragraphs (a)(4) of §§ 25.226 and 25.227 that VMES and ESAA applicants that plan to use a contention protocol in the uplink transmissions of their ESIMs certify that their use of the contention protocol is reasonable.⁴⁶ This requirement is already contained in § 25.115(i), and applies by its terms to applications for ESIMs.⁴⁷ No commenters object to this revision, which is adopted.⁴⁸

⁴⁶ NPRM, 32 FCC Rcd at 4248, para. 28.

⁴⁷ The duplication would be eliminated by deleting §§ 25.226 and 25.227 in their entireties, as proposed.

⁴⁸ See, e.g., Inmarsat Comments at 4 (stating that Inmarsat supports the Commission's proposals regarding contention protocols).

Point of Contact in the United States. The Commission proposed to consolidate the requirement that there be a point of contact in the United States with the authority and ability to cease all emissions into the platform-specific rules for ESVs, VMESs, and ESAAs in § 25.228.⁴⁹ No commenters take exception to this proposal, which we adopt.⁵⁰

⁴⁹ NPRM, 32 FCC Rcd at 4248, para. 29.

⁵⁰ See, e.g., Inmarsat Comments at 3 (noting that “[t]hese rule revisions will promote uniformity and efficiency.”).

Data Logging Requirement. The Commission proposed to eliminate the data logging requirements that are in paragraphs (a)(5) of §§ 25.221 and 25.222 for C- and Ku-band ESV operators and in paragraphs (a)(6) of §§ 25.226 and 25.227 for Ku-band VMES and ESAA operators.⁵¹ The Commission has never requested the logs for the vehicle location, transmit frequency, channel bandwidth, and target satellite of ESIM transmissions from an ESIM operator. Commenters almost uniformly report never having been asked for this data and were consistent in their support for eliminating the requirement.⁵² For example, Hughes comments that the Commission should find that the data logging requirements imposed on ESIM operators are onerous and unnecessary and, accordingly, should be eliminated.⁵³ In its reply comments, ViaSat notes that HNS, Gogo, Inmarsat, Kymeta, Intelsat and Boeing confirm ViaSat's experience and understanding that ESIM location information has been unnecessary because there does not appear to have been any suspected cases of interference.⁵⁴ However, SES and O3b state in reply comments that it had used this data to resolve interference events, without providing specifics.⁵⁵ SES and O3b requests that if the Commission chooses to eliminate the requirement, we should remind ESIM operators that they must cooperate fully to resolve instances of harmful interference.⁵⁶ Section 25.274(g) of the Commission's rules already imposes this requirement for all operators.⁵⁷ Given the experience with several years of ESIM operations, we find that the logging requirement is no longer necessary.

⁵¹ NPRM, 32 FCC Rcd at 4248, para. 30.

⁵² AC BidCo Comments at 4; Boeing Comments at 5; Hughes Comments at 4; Inmarsat Comments at 3; Joint Commenters at 5; Telesat Comments at 6; and ViaSat at 4, 7-8; AC BidCo Reply Comments at 2-3.

⁵³ Hughes Comments at 4.

⁵⁴ ViaSat Reply Comments at 4.

⁵⁵ SES and O3b Reply Comments at 9-10.

⁵⁶ Id.

⁵⁷ 47 CFR 25.274(g).

Remote Monitoring and Control Requirement. The Commission proposed to incorporate a remote monitoring and control requirement in our proposed § 25.228(c), and make it applicable to all types of ESIMs.⁵⁸ The Commission proposed that each remote terminal must be (1) monitored and controlled by a network control and monitoring center (NCMC) or equivalent facility, (2) that each remote terminal must comply with “disable transmission” commands from the NCMC, and (3) that the NCMC must monitor the operation of each ESIM terminal in its network, and transmit a “disable transmission” command to a remote terminal that malfunctions in such a way as to cause unacceptable interference to another radiocommunication station. These requirements are spread throughout the existing rule sections.⁵⁹ While the Commission did not include the 100 millisecond response time for complying with a “disable transmission” command in the text of the proposed rules, the Commission did pose the question as to whether it should be maintained.⁶⁰ Commenters support the proposal to harmonize the requirements and maintain the 100 millisecond response time.⁶¹ For example, ViaSat notes that the capability of NCMCs to command individual ESIMs to cease or reduce emissions within 100 milliseconds if the aggregate off-axis EIRP density limits are being exceeded is already required in the separate service rules for each type of ESIM and has not been a barrier to ESIM deployment.⁶² Thus, ViaSat says incorporating a requirement into the consolidated rule to monitor the aggregate power density levels of all ESIMs in the network would not increase regulatory burdens or otherwise impede future deployment of ESIMs.⁶³ To the contrary, ViaSat points out that this requirement is necessary to ensure that ESIM networks that use variable power control are capable of complying with the off-axis EIRP density limits in the aggregate, and thus ensuring that adjacent satellite networks are adequately protected.⁶⁴

⁵⁸ NPRM, 32 FCC Rcd at 4248-49, para. 31.

⁵⁹ The monitoring and control requirements were in paragraphs (a)(2)(iii) and (a)(3)(iii) of §§ 25.221, 25.222, 25.226, and 25.227; and 25.227(a)(10).

⁶⁰ See NPRM, 32 FCC Rcd at 4249, para. 33 (addressing cessation of uplink transmissions for VMES).

⁶¹ See, e.g., Hughes Comments at 2; Inmarsat Comments at 4; Telesat Comments at 7; and ViaSat Comments at 7.

⁶² ViaSat Reply Comments at 8.

⁶³ Id.

⁶⁴ ViaSat Reply Comments at 8.

In contrast, Telesat asserts that specific NCMC capability requirements regarding aggregate off-axis EIRP spectral density limits are unnecessary and suggests that one possible approach for network operators to ensure compliance with aggregate off-axis EIRP spectral density limits is through the methodology in ITU Resolution 156.⁶⁵ Telesat argues that network designers and operators should decide whether to monitor aggregate off-axis spectral density limits, but should not be required to do so.⁶⁶

⁶⁵ Telesat Comments at 7. Telesat states that under this methodology, compliance with the aggregate limit would be maintained by limiting the power density of each individual earth station by 10 log(N) dB, where N is the “number of earth stations in motion that are in the receive satellite beam of the associated satellite and that are expected to transmit simultaneously on the same frequency.” Id.

⁶⁶ Id.

ViaSat asserts that Telesat's proposal is flawed due to the fact that Resolution 156 is premised on a requirement that an NCMC notify individual terminals to cease operations through “disable transmission” commands, and that means individual earth stations must be controlled by an NCMC in any event.⁶⁷ According to ViaSat, the mechanism for controlling individual earth stations to manage aggregate off-axis EIRP density still is necessary under Resolution 156, both to calculate the apportioned power levels based on the number of operating terminals and to monitor the aggregate of the apportioned values, and command earth stations to adjust their levels or cease transmitting as required.” ⁶⁸ We agree with ViaSat and further note that Note 4 of Annex 1 to ITU Resolution 156 explicitly addresses the need of controlling potential aggregate interference. ViaSat also states that the 10 log(N) approach, considered in Note 3 of Annex 1 to ITU Resolution 156 and not requiring controlling aggregate off-axis EIRP density is inappropriate for ESIMs using advanced modulation and coding techniques. We agree with ViaSat on this point. These techniques are intended to cope with propagation impairments specific to the location of each ESIM or for other network efficiency considerations. As a result, such ESIMs may intentionally transmit with different EIRP density levels.⁶⁹ For those reasons, we do not agree with Telesat's proposal to eliminate the need for monitoring the aggregate off-axis EIRP density.

⁶⁷ ViaSat Reply Comments at 7.

⁶⁸ Id.

⁶⁹ Id.

We also agree with ViaSat, Hughes and others that retaining the monitoring and control requirements, consolidating them into the ESIM section and harmonizing them for all types of ESIMs does not increase the regulatory burden. We also agree with commenters that the capabilities provided by the NCMC per these requirements are essential for effective spectrum sharing. We therefore adopt the proposed incorporation of the requirements, including the 100 millisecond response time, into § 25.228 and the application of those requirements to all types of ESIMs.

Self-Monitoring Requirement. Section 25.227(a)(11) requires that ESAA terminals be self-monitoring and capable of automatically ceasing transmission. § 25.227 paragraphs (a)(1)(iii), (a)(2)(ii), and (a)(3)(ii), and corresponding paragraphs in §§ 25.221, 25.222, and 25.226 contain similar self-monitoring requirements. The Commission proposed to make this requirement generally applicable to all types of ESIMs and to codify it in § 25.228(b).⁷⁰ Commenters are also supportive of extending this requirement to all ESIMs in the unified ESIM rule.⁷¹ We adopt the proposal to codify the self-monitoring requirement in § 25.228(b).

⁷⁰ NPRM, 32 FCC Rcd at 4249, para. 32.

⁷¹ See, e.g., Hughes Comments at 2; Inmarsat Comments at 4; ViaSat Comments at 7.

Cessation of Uplink Transmissions Upon Loss of Downlink Signal. Sections 25.226(a)(9) and 25.227(a)(9) state that each VMES or ESAA terminal must automatically cease transmitting within 5 seconds or 100 milliseconds, respectively, upon loss of reception of the satellite downlink signal or when it detects that unintended satellite tracking has happened or is about to happen. In the ESIMs NPRM, the Commission proposed to eliminate these rules as redundant ⁷² because § 25.271(g) applies by its terms to all types of ESIMs, and its provision with regard to loss of synchronization to signals from the target satellite is general enough to cover all situations of interest. Boeing and other commenters support this proposal.⁷³ Specifically, Boeing states that the “Commission's recent adoption of § 25.271(g) adequately addresses this requirement for all earth stations operating with FSS networks without imposing a potentially arbitrary time limit (i.e., five [seconds] or a tenth of a second) for meeting the requirement.” ⁷⁴ We affirm that § 25.271(g) stands in the place of these vehicle-specific requirements, and delete §§ 25.226(a)(9) and 25.227(a)(9).

⁷² NPRM, 32 FCC Rcd at 4249, para. 33.

⁷³ Boeing Comments at 5; Inmarsat Comments at 4.

⁷⁴ Boeing Comments at 6.

ESIM Installation Requirement for Radiation Hazard Mitigation. Our rules require that all VMES and ESAA licensees ensure installation of VMES or ESAA terminals on vehicles by qualified installers who have an understanding of the antenna's radiation environment and use those measures best suited to maximize protection of the general public and persons operating the vehicle and equipment.⁷⁵ The Commission proposed extending this requirement to ESVs operating in the C-, Ku- and Ka-bands, because the same basic rationale for the VMES and ESAA requirement appears to apply equally to ESVs—i.e., to ensure protection of members of the public (including those manning the vessels and operating the equipment), who may be exposed to hazardous radiation environments on vessels as well as on or in the vicinity of land vehicles and aircraft.⁷⁶ Accordingly, the Commission proposed to consolidate the requirement into paragraph (d) of the proposed § 25.228.⁷⁷ The Commission also proposed cross-referencing § 1.1310 Table 1 of the Commission's rules, rather than specifying the maximum permitted radiation exposure level in § 25.228(d).⁷⁸ As with other organizational changes, commenters are supportive.⁷⁹ We therefore adopt these proposals.

⁷⁵ The rules also require that a VMES or ESAA terminal exhibiting radiation exposure levels exceeding 1.0 mW/cm² in accessible areas, such as at the exterior surface of the radome, must have a label attached to the surface of the terminal warning about the radiation hazard and must include thereon a diagram showing the regions around the terminal where the radiation levels could exceed 1.0 mW/cm².

⁷⁶ NPRM, 32 FCC Rcd at 4249, para. 34.

⁷⁷ Id.

⁷⁸ Id.

⁷⁹ AC BidCo Comments at 3; Inmarsat Comments at 4.

Reorganizing and Streamlining Footnotes to the Table of Frequency Allocations

In the ESIMs NPRM, we proposed to reorganize and consolidate the sections in part 25 of the Commission's rules, including technical and operational as well as application rules, for the three types of ESIMs. This reorganization included updates to the Commission's Table of Frequency Allocations as necessary to reflect the changes we adopt in this Order. We find that this reorganization can better be accomplished with a few additional, non-substantive organizational changes in the non-Federal Government (NG) Footnotes to the Table of Frequency Allocations.⁸⁰

⁸⁰ 47 CFR 2.106. We note that these revisions are in addition to the changes proposed in the NPRM, such as to US133, and are adopted herein.

Specifically, we combined the text of footnote NG55 with part of the text from footnote NG52 which addresses ESIM sub-bands. Based on the number of the international footnote for ESIMs, 5.527A, the resulting footnote is numbered as NG527A.⁸¹ As a result of combining ESIM-related substantive issues in the new NG527A, we additionally move some text in NG52 to new footnote NG527A. Additionally, we combine the text of revised footnote NG180 with the existing text of NG181, and numbered the resulting footnote as NG457A.⁸² Finally, based on these revisions, we remove footnotes NG55, NG180, and NG181. The substantive content in those footnotes is fully covered by the other revisions. We note below where these changes impact other revisions.

⁸¹ See Appendix B—Final Rules.

⁸² As with the new ESIM footnote, NG527A, the numbering for the ESV footnote, NG457A, is based on the number of the international footnote for ESVs in the 5925-6425 MHz band, 5.457A.

Vehicle-Type Specific Rules Applicable Across Multiple Frequency Bands

ESV Requirements. As explained in the ESIMs NPRM, there are two rule sections that address specific requirements for ESV operators that were adopted to codify section 306 of the Communications Act.⁸³ Specifically, paragraphs (a)(6) and (a)(7) of §§ 25.221 and 25.222 require ESV operators, licensed by the FCC that are communicating with ESVs on vessels registered outside the United States to maintain detailed information on each vessel's country of registry and a point of contact within the foreign administration responsible for licensing the ESV, and to control ESVs using a hub earth station located in the United States. However, a U.S.-licensed ESV may operate under control of a hub earth station located outside the United States, provided that the ESV operator maintains a point of contact in the United States that can make the ESV cease transmitting if necessary. Because paragraphs (a)(6) and (a)(7) of §§ 25.221 and 25.222 are statutorily based, we retain these requirements in paragraph (e)(3) and paragraph (e)(1), respectively, of § 25.228.

⁸³ NPRM, 32 FCC Rcd at 4250, para. 36. See also 47 U.S.C. 306.

We also discontinued our use of the term “ESV hub operators” and “hub earth stations” for greater clarity. In their place, in our revised rules, we use the term “network control and monitoring center” (NCMC) ⁸⁴ to better reflect the nature of the functions performed by such facilities. Commenters generally offer approval of this ministerial change.⁸⁵

⁸⁴ As noted in paragraph 0 supra, we adopt the definition of network control and monitoring center (NCMC) in § 25.103.

⁸⁵ Inmarsat Comments at 6.

VMES Requirements. As the Commission noted in the ESIMs NPRM, there are currently no rules in part 25 of the Commission's rules that apply to VMES terminals in more than one frequency band,⁸⁶ because VMES rules in part 25 only apply to Ku-band VMESs. In keeping with our goal to streamline rules for all ESIM operators, we did not propose in the NPRM, and do not adopt here, any VMES-specific rules that would apply across all frequency bands.

⁸⁶ NPRM, 32 FCC Rcd at 4250, para. 39.

ESAA Requirements. There are four sections of § 25.227 that are specific to ESAA operators in the Ku-band. There are no objections to our proposal to reorganize these ESAA requirements, either by eliminating redundant sections or incorporating them into § 25.228.⁸⁷

⁸⁷ Our decision to extend the requirements for ESAA operations to the conventional Ka-band is discussed further in the section on Ka-band ESIM rules.

First, § 25.227(a)(12) provides that ESAA applicants that comply with the established off-axis EIRP spectral-density limits may request Permitted List authority. We adopt the proposal to eliminate this rule section because this flexibility is already provided to applicants by § 25.115(k)(1).⁸⁸

⁸⁸ NPRM, 32 FCC Rcd at 4250, para. 40.

Next, we adopt the proposal to keep the requirement that is currently in § 25.227(a)(14) and move it into § 25.228(g)(2).⁸⁹ This requirement states that all ESAA terminals operating in U.S. airspace, whether on U.S.-registered civil aircraft or non-U.S.-registered civil aircraft, must be licensed by the Commission. It further states that all ESAA terminals on U.S.-registered civil aircraft operating outside of U.S. airspace must be licensed by the Commission, except as provided by section 303(t) of the Communications Act.⁹⁰ We also adopt the proposal to extend this requirement to apply to all Ka-band ESAA terminals.

⁸⁹ NPRM, 32 FCC Rcd at 4250-51, para. 41.

⁹⁰ 47 U.S.C. 303(t).

Section 25.227(a)(15) states that for ESAA systems operating over international waters, ESAA operators will certify that their target space station operators have confirmed that proposed ESAA operations are within coordinated parameters for adjacent satellites up to 6 degrees away on the geostationary arc. In the ESIMs NPRM, the Commission pointed out that the provisions of §§ 25.140 and 25.220, which apply to U.S. satellites and earth stations, and § 25.137, which also applies to foreign-licensed points of communication, make § 25.227(a)(15) redundant.⁹¹ As such, we eliminate this redundancy deleting this section and not bringing this requirement into the ESIM rule section.

⁹¹ NPRM, 32 FCC Rcd at 4251, para. 42.

Finally, we adopt the proposal to move the requirements of § 25.227(a)(16) to new § 25.228(g)(3), with a minor revision to make the requirement clearly imperative.⁹² Specifically, the provision requires that prior to operations within the foreign nation's airspace, the ESAA operator must ascertain whether the relevant administration has operations that could be affected by ESAA terminals, and must determine whether that administration has adopted specific requirements concerning ESAA operations. Further, in moving these requirements to § 25.228(g)(3), we extend the existing requirement to apply to Ka-band ESAA operators. Inmarsat argues that the provision in paragraph (g) of § 25.228 that states that an ESAA terminal in foreign airspace must operate under the Commission's rules or those of the foreign operator, whichever are more constraining, should be eliminated.⁹³ We disagree. The Commission's rules are designed, inter alia, to protect adjacent satellites spaced two degrees apart from interference from earth stations communicating with other satellites. In some cases, the satellites protected from interference by these rules are U.S.-licensed satellites serving foreign territory, where the relevant administrations may not have comparable rules.

⁹² NPRM, 32 FCC Rcd at 4251, para. 43.

⁹³ Inmarsat Comments at 7.

Frequency-Band Specific Status and Coordination Rules

As proposed in the NPRM and described in detail below, while moving the ESIM technical and operational requirements into a unified rule section, we eliminate redundancies and harmonize language whenever possible. In the separate ESIM sections, there are frequency-band specific rules for ESVs, VMESs and ESAAs in the conventional and extended Ku-bands.⁹⁴ The Commission proposed to eliminate some of these requirements, which were redundant with other provisions in part 25.⁹⁵ The specific changes are explained below. We retain the provisions in paragraphs (c) and (d) of §§ 25.222, 25.226, and 25.227 which were not redundant and are now included in § 25.228.

⁹⁴ Under the adopted § 25.228, there are Commission rules for ESIMs operation in four bands: The conventional C-band and the conventional and extended Ku-bands and conventional Ka-band.

⁹⁵ NPRM, 32 FCC Rcd at 4251, para. 44.

Specifically, we eliminate the provision included in both §§ 25.226(a)(8) and 25.227(a)(8), because this provision is redundant with the one in § 25.209(c)(1). This requirement provides that in the relevant bands,⁹⁶ VMES and ESAA terminals receive protection from interference caused by space stations other than the target space station only to the degree to which harmful interference would not be expected to be caused to a hypothetical earth station employing an antenna conforming to the reference patterns defined in § 25.209(a) and (b) and stationary at the location at which any interference occurred.

⁹⁶ Specifically, VMES terminal receiving in the 10.95-11.2 GHz (space-to-Earth), 11.45-11.7 GHz (space-to-Earth) and 11.7-12.2 GHz (space-to-Earth) bands, and ESAA terminal receiving in the 11.7-12.2 GHz (space-to-Earth) bands do not receive protection from interference.

Similarly, we eliminate the provision in §§ 25.222(a)(8), 25.226(a)(7) and 25.227(a)(7), which are redundant with new footnote NG527A to § 2.106 of the Commission's rules.⁹⁷ This footnote states that in the 10.95-11.2 GHz (space-to-Earth) and 11.45-11.7 GHz (space-to-Earth) frequency bands ESVs, VMESs and ESAAs must not claim protection from transmissions of non-Federal stations in the fixed service.

⁹⁷ As noted above, we are moving the relevant text to NG527A from NG52 for organizational purposes.

Finally, the Commission noted in the ESIMs NPRM that there are two sets of coordination requirements for Ku-band ESIMs, which are contained in paragraphs (c) and (d) of §§ 25.222, 25.226 and 25.227.⁹⁸ Paragraphs (c) in these rule sections address the coordination requirements related to the protection of the NASA Tracking and Data Relay Satellite System (TDRSS) in the 14.0-14.2 GHz frequency band. Paragraphs (d) address coordination requirements designed to protect the Radio Astronomy Service (RAS) in the 14.47-14.5 GHz frequency band. Paragraphs (c), as well as paragraphs (d), in different rule sections, while covering the same frequency bands and coordination requirements to protect TDRSS or RAS operations, as applicable, are worded slightly differently in each rule section. We move these requirements to § 25.228(j), with non-substantive word changes to harmonize the language for the requirements.⁹⁹

⁹⁸ NPRM, 32 FCC Rcd at 4252, para. 47.

⁹⁹ 47 CFR 25.228(j).

Vehicle-Type Specific Rules Applicable to a Single Frequency Band

Part 25 includes rules that are particular to the type of ESIM in a specific frequency band. For example, C-band ESVs and Ku-band ESAAs have requirements that are unique to the combination of type of earth station and the particular frequency band in which it operates. The Commission has never licensed C-band VMES and ESAA terminals, and did not propose to adopt rules for these terminals in this proceeding.

C-band ESV Specific Requirements. The Commission proposed to retain and move several requirements that are unique to ESVs operating in the C-band to § 25.228(h).¹⁰⁰ Specifically, this proposal covered the provisions in paragraphs (a)(8), (a)(9), (a)(10), (a)(12), and (a)(13) of § 25.221 as written. No commenter addressed this proposal, and we have relocated these provisions to § 25.228 without changing the terms, as proposed.¹⁰¹

¹⁰⁰ NPRM, 32 FCC Rcd at 4252-53, para. 49-50. The Commission has an open proceeding exploring additional uses of “mid-band spectrum,” including the 3700-4200 MHz portion of the C-band. See Expanding Flexible Use in Mid-Band Spectrum Between 3.7 and 24 GHz, Notice of Inquiry, 32 FCC Rcd 6373 (2017); Expanding Flexible Use of the 3.7-4.2 GHz Band, Order and Notice of Proposed Rulemaking, FCC 18-91 (rel. July 13, 2018) (Mid-band Proceeding). Operation of ESIMs will be subject to any changes to the Commission's rules made as a result of Commission action in the Mid-Band Proceeding.

¹⁰¹ Section 25.228(h).

As noted in the ESIMs NPRM, rules were adopted in the 2005 ESV Order to protect FS and FSS providers in the C-band while providing maximum flexibility to ESV operators.¹⁰² Specifically, Section 25.221(a)(11) stated that ESVs while in motion do not receive interference protection from either terrestrial licensees or satellites. The Commission proposed to limit this provision only to terrestrial licensees. This updated provision is moved to § 25.228(h)(4). No commenters object to the proposal, which we adopt, to amend the second sentence of Non-Federal Government footnote NG180 of § 2.106 consistent with this change. As noted above, this amended footnote is combined with NG181 and moved to NG457A for better organization and consistency.¹⁰³

¹⁰² NPRM, 32 FCC Rcd at 4252, fn 52.

¹⁰³ See Appendix B—Final Rules.

Ku-Band ESAA Specific Requirements. Section 25.227(a)(13) contains specific requirements for Ku-band ESAA providers operating in international airspace within line-of-sight of the territory of a foreign administration.¹⁰⁴ These requirements are moved to § 25.228(i), with non-substantive word changes to harmonize the language to that of § 25.228.

¹⁰⁴ 47 CFR 25.227(a)(13).

Technical and Operational Requirements for Ka-band ESIMs

The Commission did not propose any specific technical or operational requirements for ESVs, VMESs, or ESAAs operating in the conventional Ka-band. The Commission stated that such ESIMs would be authorized subject to the requirements in § 25.115(n), which includes the requirement to comply with the earth station off-axis EIRP density limits in new § 25.218(i), unless the ESIM operations are coordinated under § 25.220.¹⁰⁵ This is similar to the blanket-licensing provisions for conventional Ka-band earth stations in § 25.138. The Commission proposed that conventional Ka-band ESVs would be required to comply with the requirements in new § 25.228(e), conventional Ka-band VMESs would be required to comply with the requirement in new § 25.228(f), and conventional Ka-band ESAAs would be required to comply with the requirements in new § 25.228(g). The Commission sought comment on any additional provisions that should be adopted for the operation of ESVs, VMESs, or ESAAs in the conventional Ka-band, such as minimum separation distances to protect the fixed and mobile services from ESV emissions, and/or power flux-density limits to protect the fixed and mobile services from ESAA emissions.¹⁰⁶

¹⁰⁵ NPRM, 32 FCC Rcd at 4253, para. 52.

¹⁰⁶ Id.

The Commission also proposed to amend an existing footnote to the Table of Allocations to recognize the operation of ESIMs as an application of the FSS with primary status in the conventional Ka-band.¹⁰⁷ The Commission sought comment on its belief that ESIMs operating in the conventional Ka-band in accordance with its proposed rules would not pose more of a risk of interference to, nor require more interference protection from, other radiocommunication systems than other earth stations operating in the frequency band on a primary basis today.¹⁰⁸ The Commission has taken similar steps to clarify the primary status of C-band and Ku-band ESIMs.¹⁰⁹ Specifically, the Commission proposed to amend footnote NG55, which authorizes ESV, VMES, and ESAA use in the Ku-band, to include a portion of the Ka-band and to use the term “ESIMs.” ¹¹⁰ With the exception of the areas discussed below in the bands, 18.6-18.8 GHz, 29.25-29.3 GHz and 28.35-28.6, commenters generally supported these proposed changes.

¹⁰⁷ NPRM, 32 FCC Rcd at 4253, para. 53.

¹⁰⁸ As stated in the NPRM, the Commission already blanket licenses ubiquitously-deployed fixed earth stations in the conventional Ka-band under § 25.138; under the proposed rules ESIMs would have to comply with regulations designed to ensure that they do not cause more interference than fixed earth stations. Id. at 4253, fn 54.

¹⁰⁹ See, e.g., 47 CFR 2.106, footnotes NG55, NG180, and NG181. As noted above, for better organization, NG180 and NG181 are now combined into NG457A.

¹¹⁰ See NPRM, 32 FCC Rcd at 4253, para. 53.

29.25-29.3 GHz Band. In the 29.25-29.5 GHz band, GSO FSS operations and feeder links for the NGSO Mobile Satellite Service (MSS systems) are designated for co-primary usage. Iridium operates feeder links for its NGSO MSS system in the 29.1-29.3 GHz band.¹¹¹ Iridium urges the Commission not to authorize ESIMs operations in the 29.25-29.3 GHz band that is shared with Iridium feeder links.¹¹² Iridium claims that the addition of ESIM operations with GSO FSS space stations in this band segment “would create an impractically complex sharing environment” with its NGSO-MSS feeder link operations.¹¹³ Iridium also argues that the satellite industry has not developed a method for determining appropriate exclusion zones around Iridium feeder-link earth stations, outside of which ESIM operations in the band segment will not cause harmful interference to Iridium satellite reception of feeder link uplink transmissions.¹¹⁴ Iridium has three such feeder-link earth stations in the United States that are currently authorized to operate in the 29.25-29.3 GHz band: One in Tempe, Arizona; one in Fairbanks, Alaska; and one in Wahiawa, Hawaii.¹¹⁵

¹¹¹ Iridium Satellite LLC, IBFS File No. SES-MOD-20060907-01680 (granted Mar. 29, 2007).

¹¹² Iridium Comments at 1-2. Iridium has since acknowledged that the Commission could allow ESVs and VMES in the band but requests that the Commission defer consideration of ESAAs operating in 29.25-29.3 GHz. Letters from Scott Blake Harris, Counsel to Iridium Communications, Inc. to Marlene H. Dortch, Secretary, Federal Communications Commission at 2 (filed Sept. 12, 2018) (Iridium Sept. 12 Ex Parte Letters); Letter from Robert M. McDowell, Counsel to Iridium Communications, Inc. to Marlene H. Dortch, Secretary, Federal Communications Commission at 1 (filed Sept. 19, 2018) (Iridium Sept. 19 Javed Ex Parte Letter) and Letter from Scott Blake Harris, Counsel to Iridium Communications, Inc. to Marlene H. Dortch, Secretary, Federal Communications Commission at 2 (filed Sept. 20, 2018) (Iridium Sept. 20 Bender Ex Parte Letter) In response to Iridium's new proposal, Inmarsat, ViaSat and SES assert that there is no material difference in the potential impact from an aeronautical ESIM and other ESIMs on the ground. Letter from Jack Wengryniuk VP, Regulatory and Market Access Inmarsat, Inc., Christopher J. Murphy Associate General Counsel, Regulatory Affairs and Daryl T. Hunter Chief Technical Officer, Regulatory Affairs ViaSat, Inc., and Petra A. Vorwig Senior Legal and Regulatory Counsel SES Americom, Inc., to Marlene H. Dortch, Secretary, Federal Communications Commission (filed Sept. 18, 2018) (ESIM Operators Sept. 18 Joint Ex Parte Letter). See also Letter from John P. Janka and Elizabeth R. Park, Counsel to ViaSat, Inc. to Marlene H. Dortch, Secretary, Federal Communications Commission (filed Sept. 21, 2018) (ViaSat Sept. 21 Ex Parte Letter).

¹¹³ Letter from Scott Blake Harris, Counsel to Iridium Communications, Inc. to Marlene H. Dortch, Secretary, Federal Communications Commission, at 1 (filed Sept. 25, 2017) (Iridium September 25, 2017 Ex Parte Letter).

¹¹⁴ Id.

¹¹⁵ These earth stations are licensed by the Commission under call signs E960131 (Tempe, AZ), E050282 and E060300 (Fairbanks, AK), which are licensed to Iridium, and E980049 (Wahiawa, HI), which is licensed to General Dynamics Satellite Communication Services, LLC.

In response to Iridium's proposal to bar ESIM operations in the 29.25-29.3 GHz band, Inmarsat and ViaSat provided technical analyses of ESIM interference into Iridium feeder links that propose other approaches ESIM operators could take to coexist with Iridium in the subject band.¹¹⁶ These analyses are designed to demonstrate how ESIMs transmitting in the 29.25-29.3 GHz band would not exceed the Iridium feeder link interference protection criteria even while operating in the vicinity of Iridium feeder link earth stations. ViaSat's analysis considers six ESAAs operating at distances of 0 and 100 kilometers from an Iridium feeder link earth station, and claims that the carrier-to-interference ratio of the Iridium feeder link signal is more than 30 dB for all but 0.0001 percent of the time.¹¹⁷ Inmarsat's analysis computes an exclusion zone around an Iridium feeder link earth station within which ESIMs would not be allowed to operate in the 29.25-29.3 GHz band in order to avoid causing unacceptable interference to Iridium's feeder links.¹¹⁸ Iridium challenged the analyses conducted by ViaSat and Inmarsat, claiming that some of the underlying assumptions are incorrect, and insisted that ESIM operation in the 29.25-29.3 GHz frequency band should not be allowed.¹¹⁹ In response, ViaSat refined its analysis referred to in the Inmarsat and ViaSat Nov. 6 Ex Parte Letter, and claimed that, even under more conservative assumptions, no unacceptable interference would be caused to Iridium feeder links.¹²⁰ Similarly, Inmarsat opposed Iridium's arguments and insisted that its previous analysis was valid and even conservative.¹²¹

¹¹⁶ Letter from M. Ethan Lucarelli, Director, Regulatory and Public Policy, and Giselle Creeser, Director, Regulatory, Inmarsat, Inc., and John P. Janka and Elizabeth R. Park, Counsel to ViaSat, Inc. to Marlene H. Dortch, Secretary, Federal Communications Commission (filed Nov. 6, 2017) (Inmarsat and ViaSat Nov. 6 Ex Parte Letter).

¹¹⁷ Id.

¹¹⁸ Id.

¹¹⁹ Letter from Scott Blake Harris, Counsel to Iridium Communications, Inc. to Marlene H. Dortch, Secretary, Federal Communications Commission (filed Jan. 18, 2018) (Iridium Jan. 18 Ex Parte Letter).

¹²⁰ Letter from John P. Janka and Elizabeth R. Park, Counsel to ViaSat, Inc. to Marlene H. Dortch, Secretary, Federal Communications Commission (filed Feb. 5, 2018) (ViaSat Feb. 5 Ex Parte Letter).

¹²¹ Letter from Giselle G. Creeser, Director, Regulatory, Inmarsat to Marlene H. Dortch, Secretary, Federal Communications Commission (filed Feb. 16, 2018) (Inmarsat Feb. 16 Ex Parte Letter).

Subsequently, Iridium argued that the 50 megahertz under discussion between 29.25-29.3 GHz corresponded only to 5% of the total 2,000 megahertz of the conventional Ka-band spectrum where ESIM operation would be allowed and repeated its argument “that the satellite industry has been unable to develop a method for coordinating NGSO feeder-links and ESIMs.” ¹²² In response, ViaSat argued that channels commonly used to provide broadband service to aircraft have bandwidths of 80, 160 or 320 megahertz, and that a prohibition on using the 50 megahertz in 29.25-29.3 GHz would therefore have a disproportionate impact on the capacity of the satellite network.¹²³ In other words, according to ViaSat, decreasing the amount of spectrum available from 750 megahertz (in a 29.25-30 GHz band) to 700 megahertz (in a 29.3-30 GHz band) would preclude deployment of, for instance, a network that relies on two 320 megahertz channels and one 80 megahertz channel. Thus, ViaSat argues, the impact of not being able to use the band 29.25-29.3 GHz could be greater than simply reducing available spectrum by 50 megahertz, but could actually prevent providers from making full use of the conventional Ka-band. Later filings from Iridium and ViaSat further elaborated on their prior arguments.¹²⁴

¹²² Letter from Scott Blake Harris, Counsel to Iridium Communications, Inc. to Marlene H. Dortch, Secretary, Federal Communications Commission (filed Mar. 22, 2018) (Iridium Mar. 22 Ex Parte Letter).

¹²³ Letter from John P. Janka and Elizabeth R. Park, Counsel to ViaSat, Inc. to Marlene H. Dortch, Secretary, Federal Communications Commission (filed Mar. 26, 2018) (ViaSat Mar. 26 Ex Parte Letter).

¹²⁴ Letter from Scott Blake Harris, Counsel to Iridium Communications, Inc. to Marlene H. Dortch, Secretary, Federal Communications Commission (filed Apr. 11, 2018) (Iridium Apr. 11 Ex Parte Letter); Letter from John P. Janka and Elizabeth R. Park, Counsel to ViaSat, Inc. to Marlene H. Dortch, Secretary, Federal Communications Commission (filed Apr. 26, 2018) (ViaSat Apr. 6 Ex Parte Letter); Letter from Scott Blake Harris, Counsel to Iridium Communications, Inc. to Marlene H. Dortch, Secretary, Federal Communications Commission (filed Jun. 28, 2018); Letter from John P. Janka and Elizabeth R. Park, Counsel to ViaSat, Inc. to Marlene H. Dortch, Secretary, Federal Communications Commission (filed Aug. 29, 2018) (ViaSat Aug. 29 Ex Parte Letter); Iridium Sept. 12 Ex Parte Letters; ESIM Operators Sept. 18 Joint Ex Parte Letter; Iridium Sept. 19 Javed Ex Parte Letter and Iridium Sept. 20 Bender Ex Parte Letter.

As an initial matter, coordination is required between GSO FSS and feeder links to MSS space stations that have co-primary status in the frequency band 29.25-29.3 GHz.¹²⁵ The Commission has previously stated that NGSO MSS applicants bear the burden of showing that a new NGSO MSS feeder-link facility can share with uplinks to GSO FSS space stations.¹²⁶ The Commission is committed to being as spectrally efficient as possible, and has stressed that NGSO MSS uplink applicants must demonstrate that coordination with GSO FSS operation in the 29.25-29.3 GHz band is feasible, as required by paragraph (c) of § 25.258.¹²⁷ Based on the record before us, we do not believe that it is necessary to establish exclusion zones in order to protect Iridium space station feeder link reception. Iridium has previously acknowledged that the 29.25-29.3 GHz band is shared with GSO FSS networks.¹²⁸ Moreover, in a subsequent grant modifying Iridium's license, the International Bureau clearly restated Iridium's co-primary status with respect to GSO FSS networks.¹²⁹ Iridium questions the feasibility of implementing exclusion zones in which ESIMs must not operate in the 29.25-29.3 GHz band as a method of protecting Iridium feeder links. Instead, we observe that the current coordination provisions of § 25.258(a) of our rules would require ESIM operations in 29.25-29.3 GHz, like those of any other GSO FSS earth stations operating in the band, to engage in coordination with Iridium.¹³⁰

¹²⁵ While allocation of a given frequency band to a particular service on a “primary” basis entitles that service to protection against harmful interference from stations of a “secondary” service, “co-primary” services such as the NGSO MSS and GSO FSS in the 29.25-29.5 GHz band share that band on an equal basis and may not cause harmful interference to each other. See 47 CFR 2.104(d), 2.105(c).

¹²⁶ Rulemaking to Amend Parts 1, 2, 21, and 25 of the Commission's Rules to Redesignate the 27.5-29.5 GHz Frequency Band, to Reallocate the 29.5-30 GHz Frequency Band, to Establish Rules and Policies for Local Multipoint Distribution Service and for Fixed Satellite Service, First Report and Order, 11 FCC Rcd 19005, 19024, para. 42 (1996). In designating the 29.25-29.5 GHz bands for feeder links for NGSO MSS systems and GSO FSS uplinks, the Commission adopted specific provisions for licensing and coordination of NGSO MSS feeder links in the 29.25-29.5 GHz band. See 47 CFR 25.258 (“Operators of NGSO MSS feeder link earth stations and GSO FSS earth stations in the band 29.25 to 29.5 GHz where both services have a co-primary allocation shall cooperate fully in order to coordinate their systems”).

¹²⁷ Rulemaking to Amend Parts 1, 2, 21, and 25 of the Commission's Rules to Redesignate the 27.5-29.5 GHz Frequency Band, to Reallocate the 29.5-30 GHz Frequency Band, to Establish Rules and Policies for Local Multipoint Distribution Service and for Fixed Satellite Service, Memorandum Opinion and Order, 16 FCC Rcd. 11436, 11438-39, para. 7 (2001).

¹²⁸ Opposition of Iridium Constellation LLC, IBFS File No. SAT-MOD-20120813-00128 (filed Oct. 19, 2013), at 1 (stating that the modification Iridium seeks “will not require additional bandwidth in the 29.25-29.3 GHz band shared with GSO FSS networks such as Hughes”).

¹²⁹ See Iridium Constellation LLC, Application for Modification of License to Authorize a Second-Generation NGSO MSS Constellation, 31 FCC Rcd 8675, 8676, para. 3 (“Iridium shares the 29.25-29.3 GHz feeder uplink band on a co-primary basis with geostationary-satellite orbit (GSO) space stations in the fixed-satellite service (FSS).”).

¹³⁰ See also 47 CFR 25.203(h).

We find that coordination under § 25.258(a) will provide Iridium with sufficient interference protection. For example, ESIMs may seek to protect Iridium feeder link reception by not transmitting in the 29.25-29.3 GHz band when the transmission from the ESIM would pass through the region in space in which an Iridium satellite could be present at an elevation angle of five degrees or higher ¹³¹ as viewed from any Iridium feeder link earth station transmitting in the band,¹³² and such transmission would exceed the interference protection criteria of the Iridium space station feeder link receiver. An ESIM could calculate when this would occur if it was programmed with the location of all of the Iridium feeder link earth stations in the band.¹³³ More specifically, with this information programmed into an ESIM, along with the information and skills that an ESIM operator already possesses in order to correctly point its antenna (i.e., its own location, the location of the target GSO FSS space station, and the requisite computing ability), the ESIM operator could determine with sufficient precision when to cut off transmissions in order to comply with these interference protection criteria.¹³⁴ Moreover, this mechanism responds to a worst-case Iridium protection scenario. In a less than worst case scenario, an ESIM would only need to avoid transmitting in the 29.25-29.3 GHz band when its transmitted signal would exceed the Iridium satellite interference protection criteria at the actual location of any Iridium satellite that is within the region in space described above, which presents more limited circumstances. If the ESIM could calculate the precise locations of the Iridium satellites in real time, rather than simply the region in space where the Iridium satellite could be present, it would only need to avoid transmitting in the band when its antenna beam would pass sufficiently near the specific Iridium satellite location as to interfere with Iridium satellite reception.¹³⁵ While this is a more burdensome calculation for the ESIM to perform and requires the transmission of information about the Iridium satellite orbits, it would afford the ESIM more opportunities to transmit in the 29.25-29.3 GHz band than the worst-case approach described above, if the ESIM licensee chose to implement it. While the Commission acknowledges these potential methods for accomplishing coordination as plausible options, the Commission does not specifically endorse either method, and ESIMs operators and Iridium are free to explore other coordination mechanisms.¹³⁶ If either ESIM operators or Iridium have concerns that coordination is not proceeding in good faith, or fail to come to an agreement, the matter can be brought to the attention of the Commission.

¹³¹ We choose that elevation angle to be five degrees or higher as viewed from any Iridium feeder link earth station transmitting in the band noting that the Iridium feeder link earth stations in the 29.25-29.3 GHz band are authorized to communicate with Iridium space stations only when the Iridium satellites are at an elevation angle of five degrees or more above the local horizontal plane, as viewed from the earth station. See, e.g. Iridium Satellite LLC, IBFS File No. SES-MOD-20060907-01680 (granted Mar. 29, 2007).

¹³² The region in space in which an Iridium satellite could be present at an elevation angle of five degrees or higher as viewed from a particular Iridium feeder link earth station is a segment of the surface of a sphere, or “cap,” at the altitude of the Iridium satellites, which is approximately 780 kilometers. The size of this cap is such that the arc length from the point directly above the Iridium feeder link earth station to the edge of the cap is approximately 2800 kilometers. The interference threshold is calculated assuming a worst-case situation in which the Iridium space station receiving antenna has maximum gain towards the ESIM location.

¹³³ This information could be programmed into the ESIM software and updated as necessary by the ESIM's Network Control and Monitoring Center (NCMC).

¹³⁴ The calculations could take place in two steps. The first step would be to identify the point (point A) at which the direction of an ESIM transmission capable of causing interference intersects a sphere that is centered on the center of the Earth and having a radius equal to the radius of the Earth plus the altitude of the Iridium satellites. The second step would be to determine whether the distance from point A to the point on the same sphere (point B) that is directly over the Iridium feeder link earth station is less than approximately 2800 kilometers in arc length. As mentioned supra, 2800 kilometers is the arc length from point B to the boundary on the sphere beyond which the Iridium satellites are below five degrees elevation angle as viewed from the feeder link earth station. If the distance between points A and B is less than 2800 kilometers, the ESIM emission could interfere with reception of the Iridium feeder uplink by an Iridium satellite located at point A.

¹³⁵ The ESIM operator's Network Control and Monitoring Center (NCMC) could periodically transmit the ephemeris data of the Iridium satellites to the ESIMs in the network to enable each ESIM to accurately calculate the locations of the Iridium satellites. Alternatively, it could transmit other data describing the Iridium satellite orbits that would reduce the computational load on the ESIMs.

¹³⁶ Iridium recommends that the Commission require ESIMs to comply with this specific coordination mechanism. Iridium Sept. 12 Ex Parte Letters at 2; Sept. 18 Javed Ex Parte Letter at 2, and Iridium Sept. 20 Bender Ex Parte Letter at 2. While Inmarsat, ViaSat and SES, urge the Commission to maintain flexibility with respect to possible coordination mechanisms. ESIM Operators Sept. 18 Joint Ex Parte Letter at 3. See also ViaSat Sept. 21 Ex Parte Letter.

We recognize that coordination between ESIMs and NGSO space stations is more complex than coordination in static situations. However, as described in the paragraph above, we are of the view that coordination is feasible. In addition, any concerns about aggregate effect for interference generated by large numbers of ESIMs can be addressed during coordination.¹³⁷ Finally, we encourage the parties to act in good faith, consistent with our overall goal of promoting efficient use of spectrum.

¹³⁷ With respect to long term interference, only one ESIM will be transmitting to a satellite receive beam in the same frequency band and polarization at any given time. With respect to short term interference, no “time aggregation” occurs if no ESIM is allowed to ever exceed the acceptable interference level associated with small percentages of time. See also ViaSat Aug. 29 Ex Parte Letter.

Iridium asserts that “coordination with blanket-licensed fixed terminals has hardly been common, has been challenging to the limited extent that it has occurred, becomes increasingly complex with each additional system, and would make sharing with ESIMs even more difficult.” ¹³⁸ However, the Commission has already granted blanket licenses for over five million earth stations to operate in the 29.25-29.3 GHz band, each of which was required, pursuant to § 25.258 of our rules, to coordinate with Iridium.¹³⁹ These earth stations are not individually licensed and can be ubiquitously deployed. We are not persuaded that the relatively small increase in total number of earth stations licensed in the band that we expect will result from authorizing ESIM operations will lead to a significant increase in the use of the 29.25-29.3 GHz band, or will make coordination exceedingly difficult.¹⁴⁰ Moreover, while interference into the Iridium feeder link receivers depends in part upon the number of simultaneously transmitting earth stations in the band, this number is determined primarily by the number of uplink spot beams on each GSO FSS satellite, not by the number of authorized earth stations. Thus, we will permit ESIMs to operate within the FSS in the 29.25-29.3 GHz band on a co-primary basis, and without protection zones for MSS feeder link operations.¹⁴¹

¹³⁸ Iridium Sept. 25, 2017 Ex Parte Letter at 2.

¹³⁹ See, e.g., HNS License Sub, LLC, Satellite Policy Branch Information: Action Taken, Public Notice, Report No. SAT-00905 (rel. Feb. 28, 2007) (IBFS File No. SES-LIC-20061226-02232).

¹⁴⁰ Compared to the small consumer earth stations with fixed antennas sold for satellite broadband access by companies such as Hughes Network Systems and ViaSat, ESIMs are several times more expensive, because they need a tracking antenna, and are therefore unlikely to be deployed in quantities remotely approaching the quantities in which those consumer earth stations have been and will continue to be deployed.

¹⁴¹ Iridium also questions whether ESIMs should be recognized as an application of the FSS in the 29.25-29.3 GHz band. Iridium Sept. 12 Ex Parte Letter at 3 and Iridium Sept. 12 Bender Ex Parte Letter at 3. ESIMs are currently operating in several frequency bands where they have been treated as applications of the FSS (see NG55, NG180, NG 181) and have been able to do so maintaining the same interference environment created by the operation of fixed earth stations. Operation of ESIMs in the band 29.25-29.3 GHz is not any different than the operation in these other frequency bands.

With respect to the conditions for authorizing operations in this band, SES Americom and its affiliate O3b, ViaSat and Inmarsat “recommend that the Commission adopt a policy statement acknowledging that it can license ESIM operations . . . where an ESIM applicant demonstrates that its operations will not have a significant impact on Iridium's licensed and actual feeder link operations.” ¹⁴² We decline to adopt such an approach, as the coordination requirement that currently applies to the operation of fixed earth stations is also applicable to ESIM operations. Therefore, as provided above, ESIM operations in 29.25-29.3 GHz will be subject to coordination with Iridium, under § 25.258(a) of our rules, just like those of any other GSO FSS earth stations operating in the band.¹⁴³ Because GSO FSS uplinks are co-primary with NGSO MSS feeder link uplinks in the 29.25-29.3 GHz band, we expect both Iridium and the licensees of ESIM operations to coordinate with each other in good faith.

¹⁴² SES, O3b, Inmarsat, ViaSat Ex Parte Letter (filed Apr. 3, 2018).

¹⁴³ See also 47 CFR 25.203(h).

ESIMs in the 28.35-28.6 GHz Band. In the NPRM, the Commission also asked for comment on any possible effects that these proposed rules may have on existing or future services in adjacent frequency bands, such as the UMFUS operations in the 27.5-28.35 GHz bands.¹⁴⁴ CTIA asserts that the Commission needs to ensure that adjacent terrestrial systems are protected from interference and that we confirm that ESIM out of band emission limits are governed by § 25.202(f).¹⁴⁵ The Global Mobile Suppliers Association (GSA) presented an analyses of interference caused by ESIM transmissions in the 28.35-28.6 GHz band into mobile service (MS) receivers operating below 28.35 GHz. GSA analyzed potential interference from ESIMs into MS receivers for all three types of ESIMs (VMES, ESV, and ESAA) for scenarios in which the ESIM is stationary and in motion, at various separation distances.¹⁴⁶ GSA acknowledged that some of its assumptions result in worst-case interference scenarios.¹⁴⁷ GSA computed both the interference-to-noise ratio at the MS receivers and the combined frequency dependent rejection required by the combined ESIM transmitters and MS receivers to mitigate the interference. GSA states its calculations show that adjacent band interference above the limits it deems acceptable would occur in many of the scenarios it analyzed. In a later submission, GSA questioned the modeling used in the ViaSat analysis.¹⁴⁸

¹⁴⁴ NPRM, 32 FCC Rcd at 4254, para 55.

¹⁴⁵ CTIA Reply Comments at 2 and 4.

¹⁴⁶ GSA Reply Comments at 2.

¹⁴⁷ GSA Reply Comments at 4.

¹⁴⁸ Letter from Reza Arefi, Chair, GSA Spectrum Group for North American Region, to Marlene H. Dortch, Secretary, Federal Communications Commission (filed June 11, 1018) (GSA June 11 Ex Parte Letter).

ViaSat characterized GSA's analysis as “a static analysis that was based on unrealistic worst-case assumptions and modeling” and claimed that it would be preferable to rely on “a statistical approach including Monte Carlo simulations and dynamic movement of stations, both 5G and ESIM, as well as realistic emission mask data for the ESIM.” ¹⁴⁹ According to ViaSat's analysis, “an earth station in motion (ESIM) operating at the lower end of the 28.35-28.6 GHz band with emissions complying with the FCC's 25.202(f) out-of-band emissions (OOBE) mask does not cause unacceptable interference to 5G systems operating at the upper edge of the adjacent 27.5-28.35 GHz band.” ViaSat further states that “GSA's reliance on a deterministic method, rather than dynamic scenarios, is contrary to the approach supported by its own members.” ¹⁵⁰

¹⁴⁹ ViaSat Mar. 26 Ex Parte Letter.

¹⁵⁰ Id. at 2. In a later submission, ViaSat addresses GSA's June 11 Ex Parte Letter. See Letter from John P. Janka and Elizabeth R. Park, Counsel to ViaSat, Inc. to Marlene H. Dortch, Secretary, Federal Communications Commission (filed Aug. 29, 2018) (ViaSat Aug. 29 GSA Ex Parte Letter).

We do not express a view here about the relative merits of a deterministic and a dynamic approach. However, as noted above, the Commission has already blanket-licensed over five million fixed earth stations in the 28.35-28.6 GHz band, which can be ubiquitously deployed at unspecified locations anywhere within the United States. ESIMs in this band, like these existing fixed earth stations will be subject to the same out-of-band emission limits in § 25.202(f) of our rules.¹⁵¹ Despite the large number of operating fixed earth stations, no commenter has challenged the adequacy of these OOBE limits to protect mobile services from interference from fixed earth stations. The number of ESIMs we expect to be deployed in the 28.35-28.6 GHz band is a smaller than the number of consumer earth stations with fixed antennas. Moreover, as noted above, a single ESIM will be transmitting to a satellite receive beam in the same frequency band and polarization at any given time and therefore the number of interference sources that might cause aggregation is also limited by this fact. GSA has not made any concrete proposals for out-of-band emission limits specific to ESIMs. Nor did the Commission propose such limits. We therefore decline to adopt any out-of-band emission limits that would be specifically applicable to ESIMs at this time. ESIMs must comply with the out-of-band emission limits specified in § 25.202(f).

¹⁵¹ 47 CFR 25.202(f).

18.6-18.8 GHz Bands. The National Academy of Sciences, through its Committee on Radio Frequencies (CORF), expresses concern that ESIMs operating in the 18.6-18.8 GHz band could cause harmful interference to earth exploration satellite service (EESS) systems operating around 18.7 GHz.¹⁵² CORF suggests that ESIMs might cause interference to EESS satellite receivers by transmitting upward toward EESS satellites in that range.¹⁵³ CORF also suggests that the introduction of ESIMs could lead to increased use of the 18.6-18.8 GHz band by FSS networks for downlink transmissions to ESIM terminals, potentially resulting in increased reflections of satellite signals off the surface of the Earth and into EESS satellite receivers.¹⁵⁴ In its reply comments, Boeing states that it reached out to CORF representatives to discuss possible misunderstandings regarding the nature of operations in the 18.6-18.8 GHz band.¹⁵⁵ Specifically, Boeing notes that given the fact that the 18.3-18.8 GHz band is authorized for downlink transmissions from FSS satellites, there is no potential for ESIMs to transmit in an upward direction in this frequency segment.¹⁵⁶ Second, Boeing pointed out, that the introduction of ESIMs in the 18.3-18.8 GHz band would not result in additional satellite downlink transmissions in this spectrum, it would just increase the number of fixed and mobile earth stations that would receive those signals on Earth.¹⁵⁷ Further, as Boeing states, “[t]he total number of FSS networks operating in the Ka-band using geostationary satellites has been governed primarily by the number of space stations that can successfully operate in a two-degree spacing environment, not any limits on end user demand for such capacity.” ¹⁵⁸ We agree and will continue to be mindful of the need to protect the interests of the passive scientific users of the radio spectrum, including users of the Radio Astronomy Service (RAS) and EESS bands, as observed by CORF.¹⁵⁹

¹⁵² CORF Comments at 6-10.

¹⁵³ CORF Comments at 9.

¹⁵⁴ Id. See also Boeing Reply Comments at 5.

¹⁵⁵ Boeing Reply Comments at 5-6.

¹⁵⁶ Id. at 5.

¹⁵⁷ Id. at 5-6.

¹⁵⁸ Id. at 6.

¹⁵⁹ CORF Comments at 1.

CORF further suggests that the Commission should clarify the proper meaning of “radio line of sight.” ¹⁶⁰ Specifically, CORF states it is particularly important to note that in general, the radio and geometric horizons are different because of atmospheric refraction.¹⁶¹ Thus, for an atmosphere having a standard refractivity gradient, the effective radius of Earth is about four-thirds that of the actual radius, which corresponds to approximately 8,500 km.¹⁶² This increases the radio horizon by about 15 percent compared to the geometric horizon.¹⁶³ Although we do not incorporate a definition of “radio line of sight” in the rules we adopt here, we note that CORF's interpretation of radio line of sight is widely accepted.

¹⁶⁰ CORF Comments at 5.

¹⁶¹ Id.

¹⁶² Id. at 5-6.

¹⁶³ Id. at 6.

Stratospheric Platforms. The Elefante Group asks the Commission to ensure that its stratospheric platforms would be considered ESAA to enable GSO satellite communications with its platforms.¹⁶⁴ We note that our ESAA definition does not set an upper limit on the altitude of the aircraft communicating with a geostationary satellite. In addition, setting such a limit was not proposed or addressed in this proceeding. We therefore decline to generally state that stratospheric platforms are included in the definition of ESAA. Proposals for using FSS frequencies for communications between such platforms and geostationary satellites will be examined taking into consideration their specific characteristics.

¹⁶⁴ Elefante Group Comments at 3. We also decline Elefante Group's request that the term “aircraft” as used within the definition of ESAA be interpreted broadly to include stratospheric platforms. Id. at 5.

Having addressed the concerns raised in the record regarding the expansion of ESIMs to the conventional Ka-band frequency bands, we find it in the public interest to adopt rule changes as proposed in the ESIM NPRM. Accordingly, we combine footnote NG55 with the relevant portion of NG52 into NG527A, and state: “In the bands 11.7-12.2 GHz (space-to-Earth), 14.0-14.5 GHz (Earth-to-space), 18.3-18.8 GHz (space-to-Earth), 19.7-20.2 GHz (space-to-Earth), 28.35-28.6 GHz (Earth-to-space), and 29.25-30.0 GHz (Earth-to-space), ESIMs may be authorized to communicate with geostationary satellites in the fixed-satellite service on a primary basis.” We also amend § 25.202(a)(8), (a)(10), and (a)(11) consistent with these changes to reflect all frequency bands.¹⁶⁵

¹⁶⁵ See Appendix B.

ESIMs Application Requirements

In the ESIMs NPRM, the Commission proposed significant reorganization of the part 25 rules governing all types of ESIMs. As explained in the ESIMs NPRM, application requirements for FSS earth station authorizations at fixed and temporary-fixed locations are in § 25.115. However, the earth station license application requirements for ESVs, VMESs, and ESAAs are contained in paragraph (b) of §§ 25.221, 25.222, 25.226, and 25.227. The Commission proposed to move the ESIM application requirements into § 25.115 for better integration of the rules, and we adopt this proposal. Specifically, the application requirements for a particular frequency band for all types of ESIM platforms will be contained in paragraphs (l) (for C-band), (m) (for Ku-band), and (n) (for Ka-band) of Section 25.115. This restructuring is globally supported by the commenters.¹⁶⁶

¹⁶⁶ AC BidCo Comments at 1; Boeing Comments at 3; Inmarsat Comments at 2; Joint Commenters Comments at 1; ViaSat Comments at 4-5.

Overview of Earth Station Licensing Rules. As explained in detail in the ESIMs NPRM, the part 25 licensing rules for FSS earth stations transmitting digital emissions to GSO FSS space stations provide two main options for obtaining a license for an earth station at a fixed location. The first option for obtaining such a license is to demonstrate compliance (in one of two ways) with default limits on emissions in directions other than toward the target satellite, which are referred to as off-axis EIRP density limits.¹⁶⁷ These limits were developed to implement the Commission's GSO FSS space station two-degree orbital spacing policy. They ensure earth station compatibility with networks using adjacent satellites in a two-degree orbital spacing environment by controlling the level of emissions from an earth station that can be transmitted toward adjacent satellite orbital locations. Under this option, there are, as indicated, two ways to show compliance. One alternative is to demonstrate that the earth station antenna gain pattern comports with the off-axis gain limits in § 25.209, and that the antenna input power density comports with limits in § 25.212. The Commission proposed to extend this option to ESIM applications. The other alternative, already available to ESIM applicants, is to demonstrate that the off-axis EIRP density of the earth station emissions comports with the applicable off-axis EIRP density limits in our ESIM rules.¹⁶⁸ The second option to obtain a license is to demonstrate that the operations of the earth stations in the satellite network have been coordinated with operators of networks using adjacent satellites that would be affected by emissions of the earth stations that exceed the default off-axis EIRP density limits, under the coordination requirements of § 25.220.

¹⁶⁷ The off-axis EIRP density limits are set forth in 47 CFR 25.218 for the C- and Ku-bands and in 47 CFR 25.138 for the Ka-band.

¹⁶⁸ These provisions are set forth in paragraphs (b)(1) of §§ 25.221, 25.222, 25.226, and 25.227.

Commenters support the proposals that both of these licensing mechanisms be available to ESIM operators.¹⁶⁹ Regarding the alternative of certifying compliance with the antenna pattern specifications in § 25.209 and the antenna input power density requirements in § 25.212, in addition to the current option of showing that the § 25.218 off-axis EIRP density limits are met, AC BidCo states that there is consensus in favor of the Commission's plan to give ESIM applicants this flexibility.¹⁷⁰ As explained in more detail below, we adopt the plan to continue to make both options for obtaining a license available for ESIMs and revise our rules to allow ESIM applicants to use both alternatives for showing compliance under the first option.¹⁷¹ As discussed above,¹⁷² we are eliminating antenna pointing accuracy requirements for ESIMs. Therefore, the showings regarding antenna pointing accuracy in paragraphs (b)(1) of §§ 25.221, 25.222, 25.226, and 25.227 will no longer be required. Similarly, the ESIM application showing required for applicants proposing to meet the 0.2 degree antenna pointing accuracy requirement in paragraphs (b)(1)(iii) of §§ 25.221, 25.222, 25.226, and 25.227 is no longer relevant. Again, because we are eliminating the antenna pointing accuracy requirement, the requirement in the existing ESIM rules that an applicant proposing to operate with a maximum pointing error greater than 0.2 degrees must declare its maximum pointing error and show that at the maximum mispointing, the EIRP density limits are still met, is no longer necessary. Once our new rules go into effect, applicants will have two options to qualify for a license: Either comply with the off-axis EIRP density limits, and provide the information required by §§ 25.115(l)-(n)(1), or coordinate, and provide the information required by §§ 25.115(l)-(n)(2). Additionally, we eliminate the pointing accuracy certification requirements of §§ 25.221(b)(1)(iii), 25.222(b)(1)(iii), 25.226(b)(1)(iii), and 25.227(b)(1)(iii), subparagraphs (A) and (B). We also eliminate the maximum mispointing declaration requirements that were in paragraphs (b)(1)(iv)(A) and the cessation of transmissions upon mispointing demonstration requirements in paragraphs (b)(1)(iv)(B) in §§ 25.221, 25.222, 25.226, and 25.227.

¹⁶⁹ AC BidCo Comments at 3; Joint Commenters Comments at 3; AC BidCo Reply Comments at 2; ViaSat Reply Comments at 4.

¹⁷⁰ AC BidCo Reply Comments at 4.

¹⁷¹ The Joint Commenters support the proposal to permit applicants to demonstrate technical compliance by either certifying compliance with (1) the off-axis antenna gain limits in § 25.209 and the antenna input power density limits in § 25.212 or (2) the off-axis EIRP density limits set forth in § 25.218. Joint Commenters at 3. See also AC BidCo at 3.

¹⁷² See para. 0 supra.

We adopt, without commenter objection, the proposal to retain the requirement to provide the off-axis EIRP density showing required by §§ 25.115(g)(1), and the coordination certifications required by § 25.220(d), for applicants that will not meet the off-axis EIRP density limits. Paragraphs (b)(2), (b)(2)(i) and (b)(2)(ii) of §§ 25.221, 25.222, 25.226, and 25.227 apply to an applicant proposing to operate with off-axis EIRP density in excess of the levels in paragraph (a)(1)(i) or (a)(3)(i) of these sections. Such an applicant will apply under the provisions in subparagraphs (a)(2) of § 25.115(l)-(n), which contain substantially the same requirements for exhibits to its earth station application.

The Commission further proposed to allow ESIM applicants the option of certifying compliance with the antenna pattern requirements of § 25.209 and the antenna input power density requirements of § 25.212, in lieu of the off-axis EIRP density limits in § 25.218.¹⁷³ This is not a substantive change, because the off-axis EIRP density limits in § 25.218, and those resulting from the summing of the antenna input power density limits in § 25.212 and the antenna off-axis gain limits in § 25.209 are the same as the off-axis EIRP density limits in the individual ESIM §§ 25.221, 25.222, 25.226, and 25.227.¹⁷⁴ No commenters disagree with this proposal.¹⁷⁵ For example, the Joint Commenters note that giving applicants the option of how to certify off-axis performance provides regulatory flexibility without sacrificing protection from harmful interference.¹⁷⁶

¹⁷³ NPRM, 32 FCC Rcd at 4254, para. 58. For completeness, we note that cross-references in § 25.212 are revised to reflect the changes to §§ 25.138, 25.221, 25.222, 25.226, and 25.227.

¹⁷⁴ In the 2015 Second Report and Order, the Commission adopted the same definition of θ as described in the preceding paragraph in § 25.209, the off-axis antenna gain limits rule. 2015 Second Report and Order, 30 FCC Rcd 14713.

¹⁷⁵ See, e.g., AC BidCo Comments at 3; Boeing Comments at 4; Joint Commenter Comments at 3; ViaSat Comments at 8.

¹⁷⁶ Joint Commenter Comments at 3.

Paragraphs (b)(2)(iii) and (b)(2)(iv) of §§ 25.221, 25.222, 25.226, and 25.227 require detailed showings that each ESAA transmitter in the system will automatically cease or reduce emissions within 100 milliseconds after generating EIRP density exceeding the applicable limits. In the rules proposed in the ESIMs NPRM in § 25.115(l)-(n)(3)(i), the applicant would have been required to show how the transmitter will detect exceedance of the off-axis EIRP density mask and reduce the power of or shut down one or more transmitters within 100 milliseconds of receiving a command to do so from the system's network control and monitoring center, if the aggregate off-axis EIRP spectral-densities of the transmitter or transmitters exceed the relevant off-axis EIRP spectral-density limits.

Many commenters argue against the demonstration requirement in our proposal. For example, Inmarsat argues that such demonstration at the application phase that would produce the necessary “detailed showings” would be impractical and burdensome.¹⁷⁷ Inmarsat submits that applicants should be able to certify compliance in their applications, just like the requirements of § 25.227.¹⁷⁸ Similarly, the Joint Commenters state they cannot support the proposal, as written, to include a requirement to demonstrate how the cessation requirement will be met.¹⁷⁹ Boeing also states that it concurs with Intelsat and Inmarsat's explanation that it would be appropriate for the Commission to permit ESIMs applicants to certify that their earth station terminals will comply with the Commission's shut down requirements to ensure compliance with the off-axis power spectral density limits, rather than require a “demonstration” of such compliance.¹⁸⁰ Such a certification requirement would be consistent with the Commission's existing rules regarding antenna pointing and cessation requirements and therefore should be adopted.¹⁸¹ Hughes provides suggested text for certification rather than demonstration.¹⁸²

¹⁷⁷ Inmarsat Comments at 4.

¹⁷⁸ Id.

¹⁷⁹ Joint Commenters at 4.

¹⁸⁰ Boeing Comments at 2.

¹⁸¹ Id.

¹⁸² Hughes Comments at 4-5.

After further consideration, we agree with commenters that a certification is sufficient for the purposes of this application requirement. We have used a certification process elsewhere in our rules and it has proven effective at ensuring that licensees satisfy the technical requirements of our rules.¹⁸³ Thus, Sections 25.115(l)-(n)(3)(i) will require all applicants to: “provide a certification that the ESIM system is capable of detecting and automatically ceasing emissions when an individual ESIM transmitter exceeds the relevant off-axis EIRP spectral density limits specified in § 25.218, or the limits provided to the target satellite operator for operation under § 25.220.”

¹⁸³ See e.g., 47 CFR 25.140(a) (requiring GSO FSS space station applications to contain certifications of compliance with certain technical requirements, without submission of any backup evidence or demonstrations).

The certification for a C-band ESV system in § 25.221(b)(3)(v) regarding compliance with the power limits in § 25.204(h) is eliminated as no longer necessary. However, we retain a technical and operational requirement to meet the power limits in § 25.204(h) in redesignated § 25.228(h)(7).

As proposed, we note that the requirements that were in paragraphs (b)(5) of §§ 25.226 and 25.227 that any VMES or ESAA applicant filing for a terminal or system and planning to use a contention protocol must include in its application a certification that its contention protocol use will be reasonable is substantially the same as the requirement in § 25.115(i), which we construe as applying to applications for ESIMs.¹⁸⁴ Therefore, we will not duplicate the language from §§ 25.226(b)(5) and 25.227(b)(5) in the ESIM rules brought into § 25.115.

¹⁸⁴ NPRM, 32 FCC Rcd at 4356, para. 65.

Further, as proposed, we delete the requirements that were in paragraphs (b)(8) of §§ 25.226 and 25.227 that VMES and ESAA applicants must submit a radio frequency hazard analysis determining via calculation, simulation, or field measurement, whether ESAA terminals, or classes of terminals, will produce power densities that will exceed the Commission's radio frequency exposure criteria as duplicative of § 1.1307(b) of the Commission's rules.¹⁸⁵ Similarly, we delete paragraphs (b)(7) of §§ 25.221 and 25.222 and § 25.226(b)(9) as duplicative of 25.115(k)(1), which we construe as applicable to ESIM applications.¹⁸⁶

¹⁸⁵ 47 CFR 1.1307(b).

¹⁸⁶ NPRM, 32 FCC Rcd at 4256, para. 66.

Paragraphs (b)(7) of §§ 25.226 and 25.227 require that any VMES or ESAA applicant must include in its application a certification that it will comply with the requirements of paragraphs (a)(6) of those sections, and paragraphs (a)(9), (a)(10), and (a)(11) of § 25.227. The Commission invited comment as to whether the certification requirement serves a useful purpose, or whether the Commission should eliminate it, because Commission licensees are required to comply with all applicable Commission rules. AC BidCo comments that “eliminating this certification requirement will have no effect on the substantive technical and operational standards that an ESIM operator must meet.” ¹⁸⁷ Because licensees will be required to comply with these provisions even without the certification requirement, we agree, and will no longer require such a certification.

¹⁸⁷ AC BidCo Comments at 4.

We proposed to remove § 25.226(b)(8), which states, in part, that all VMES applicants must demonstrate that their VMES terminals are capable of automatically ceasing transmissions upon the loss of synchronization or within 5 seconds upon loss of reception of the satellite downlink signal, whichever is the shorter timeframe. This is redundant with § 25.271(g), which applies by its terms to all transmitting earth stations. It is not necessary to duplicate the provisions in § 25.271(g) in a rule intended specifically for ESIMs. Additionally, the requirement for radiation hazard mitigation that had been included in § 25.226(b)(8) is incorporated into § 25.228(d), as explained above.

Finally, as proposed, we retain the requirements in paragraphs (b)(4) of §§ 25.221, 25.222, 25.222, 25.226, and 25.227, in paragraphs (b)(5) of §§ 25.221 and 25.222 and (b)(6) of §§ 25.226 and 25.227, and in paragraphs (b)(6) of §§ 25.221 and 25.222 and (b)(8) of §§ 25.226 and 25.227, and move those requirements into paragraphs (l)-(n) of § 25.115.¹⁸⁸ Inmarsat supports this proposal as promoting uniformity and efficiency.¹⁸⁹

¹⁸⁸ NPRM, 32 FCC Rcd at 4256-57, para. 69.

¹⁸⁹ Inmarsat Comments at 4.

Merging §§ 25.130 and 25.131 Into § 25.115

We adopt the Commission's proposals to move the requirements in § 25.130 into § 25.115(a)(5)-(10).¹⁹⁰ We note that there is a difference between what the Commission proposed in the ESIMs NPRM and the version that we adopt in this Report and Order because § 25.130 was updated by the Spectrum Frontiers Second Report and Order.¹⁹¹ The changes to § 25.130(b) are brought into § 25.115(a)(6)(i)-(iv), and the Note to paragraph (g) is now incorporated as a Note to (a)(10). Further, the Note is revised to eliminate cross-references to the individual ESIM §§ 25.221, 25.222, 25.226, and 25.227, and is revised to cross-reference the appropriate paragraphs of § 25.115.

¹⁹⁰ A list of the existing paragraphs in § 25.130 and the corresponding proposed paragraphs in § 25.115 appears in Table 1 of Appendix C.

¹⁹¹ Use of Spectrum Bands Above 24 GHz For Mobile Radio Services et al., Second Report and Order, Second Further Notice of Proposed Rulemaking, Order on Reconsideration, and Memorandum Opinion and Order, 32 FCC Rcd 10988 (2017).

Further, the last sentence of § 25.130(a) previously stated that “applicants that are not required to submit applications on Form 312EZ” must submit the information in subparagraphs (1)-(5) of § 25.130(a) as an attachment to their applications. The use of Form 312EZ is not mandatory, but rather, use is an option available to applicants under some circumstances. Therefore, as proposed, we change the word “required” to “permitted”. We reserve § 25.130. Cross-references to this section are redirected to the appropriate paragraphs in § 25.115.

Similarly, we move all requirements regarding receive-only earth stations, with minor revisions, from § 25.131 into § 25.115(b).¹⁹² We reserve § 25.131, and redirect any cross-references to this section to the appropriate paragraphs in § 25.115.

¹⁹² A list of the existing paragraphs in § 25.131 and the corresponding proposed paragraphs in § 25.115 appears in Table 2 of Appendix C.

Other Miscellaneous Changes to § 25.115

We adopt the proposals to reorganize and remove sections that are redundant or better included elsewhere in the reorganized sections.¹⁹³ Specifically, we incorporate the language regarding instructions for electronically filing from § 25.115(a)(4), into § 25.115(a)(1). We revise the cross-references in § 25.115(k)(1) to §§ 25.221, 25.226, and 25.227 to refer instead to the proposed paragraphs (l)-(n) of § 25.115, consistent with the unifying of the application requirements into § 25.115. Similarly, we adopt non-substantive changes to § 25.115(k)(2). The proposed changes to 25.115(c)(1) discussed in the ESIMs NPRM were previously adopted in the NGSO FSS Report and Order.¹⁹⁴

¹⁹³ NPRM, 32 FCC Rcd at 4257, para. 72.

¹⁹⁴ Update to Parts 2 and 25 Concerning Non-Geostationary, Fixed-Satellite Service Systems and Related Matters, Report and Order and Further Notice of Proposed Rulemaking, 32 FCC Rcd 7809, Appendix A (2017) (NGSO FSS Order or NGSO FSS FNPRM).

Changes Required in Additional Sections of the Commission's Rules: §§ 25.129, 25.133, 25.140, 25.202, 25.204, 25.209, and 25.258 and Notes to the Table of Frequency Allocations

The Commission proposed several additional changes in other sections of part 25 to harmonize the various rule sections involving ESIMs. We are updating cross-references to sections which are being eliminated or reorganized accordingly. Specifically, we eliminate references to §§ 25.221, 25.222, 25.226 and 25.227 in §§ 25.202(a)(8) and 25.140(d)(1). Section 25.140(d)(1) also has an updated reference to § 25.218. Additionally, we update the cross-reference to § 25.138(a) in § 25.140(a)(3)(iii) to point to § 25.218(i), which will contain the off-axis EIRP density limits contained in § 25.138(a). Similarly, we revise the cross-reference to § 25.138(a) in § 25.258(b) regarding operation of ubiquitously deployed GSO FSS earth stations in the 29.25-29.5 GHz frequency band to point to § 25.218(i). We are also eliminating cross-references to §§ 25.221, 25.222, 25.226, and 25.227 in §§ 25.115(g)(1)(iv) and (vii). Further, we are eliminating cross-references to § 25.138, e.g. from §§ 25.115(c)(3)(i)(B), (c)(3)(ii), and 25.132(d). In § 25.133(d), the reference to § 25.131 is updated to reflect the requirement being reorganized into § 25.115(b).

Because § 25.138 is being removed and reserved, we remove the reference to it in § 25.129(c).¹⁹⁵ For the same reasons, we remove references to § 25.221 in § 25.140(a)(3)(i), and to §§ 25.222, 25.226, and 25.227 in § 25.140(a)(3)(ii).¹⁹⁶ For completeness, we also note that we eliminate similar obsolete cross-references in § 25.220(a).

¹⁹⁵ See Appendix B.

¹⁹⁶ Id.

We revise the cross-references to §§ 25.130 and 25.131 in § 25.209(c)(1) to reflect the move of the particular requirements to §§ 25.115(b)(2) and (b)(4). Similarly, we revise § 25.209(f) to eliminate the reference to §§ 25.138, 25.221, 25.222, 25.226, and 25.227, and to refer instead to § 25.218, as well as other clarifying changes. These changes are necessary to reflect the changes to requirements for demonstrations for a non-conforming antenna. We also consolidate the requirements in paragraphs (i)-(k) of § 25.204 into § 25.228(j)(2).¹⁹⁷

¹⁹⁷ A list of the existing paragraphs in § 25.204 and the corresponding proposed paragraphs in § 25.228 appears in Table 6 of Appendix C.

In addition to moving the ESIM-related sentence of footnote NG52 of the Table of Frequency Allocations into NG527A ¹⁹⁸ that language in footnote NG52 is also revised to refer to ESIMs rather than ESVs, VMESs, and ESAAs to be consistent with the terminology adopted in this Report and Order.¹⁹⁹ Finally, footnote US133 of the Table of Frequency Allocation contained cross-references to sub-paragraphs of §§ 25.226 and 25.227 that are updated to point to the appropriate sub-paragraphs of § 25.228.²⁰⁰

¹⁹⁸ 47 CFR 2.106.

¹⁹⁹ See Appendix B—Final Rules.

²⁰⁰ We also adopt the proposal to add footnotes 5.484B and 5.527A, which relate to ESIM use and were adopted in WRC-15, to the International Table.

Procedural Matters

In this document, we have assessed the effects of reducing the application burdens of GSO FSS ESIM applicants, and find that doing so will serve the public interest and is unlikely to directly affect businesses with fewer than 25 employees.

Congressional Review Act. The Commission sent a copy of this Report and Order to Congress and the Government Accountability Office pursuant to the Congressional Review Act, see 5 U.S.C. 801(a)(1)(A).

Conclusion and Ordering Clauses

It is ordered, pursuant to sections 4(i), 7(a), 303, 308(b), and 316 of the Communications Act of 1934, as amended, 47 U.S.C. 154(i), 157(a), 303, 308(b), 316, that this Report and Order is adopted, the policies, rules, and requirements discussed herein are adopted, parts 2 and 25 of the Commission's rules are amended as set forth in Appendix B, and this Further Notice of Proposed Rulemaking is adopted.

It is further ordered that the rules and requirements adopted in the Report and Order will become effective October 8, 2019.

It is further ordered that the Commission's Consumer and Governmental Affairs Bureau, Reference Information Center, sent a copy of this Report and Order to the Chief Counsel for Advocacy of the Small Business Administration.

It is further ordered that the Commission's Consumer and Governmental Affairs Bureau, Reference Information Center, sent a copy of this Report and Order to Congress and the Government Accountability Office pursuant to the Congressional Review Act, see 5 U.S.C. 801(a)(1)(A).

List of Subjects

47 CFR Part 2

Radio, Table of Frequency Allocations.

47 CFR Part 25

Administrative practice and procedure, Earth stations, Satellites.

Federal Communications Commission.
Katura Jackson,
Federal Register Liaison Officer, Office of the Secretary.

Final Rules

For the reasons discussed in the preamble, the Federal Communications Commission amends 47 CFR parts 2 and 25 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Amend § 2.106, the Table of Frequency Allocations, by:

a. Revising pages 41, 44, 48, 49, 50, 52, and 55;

b. Adding footnotes 5.484B and 5.527A in the list of International Footnotes;

c. Revising footnote US133 in the list of United States (US) Footnotes; and

d. In the list of non-Federal Government (NG) Footnotes by:

i. Revising footnote NG52;

ii. Removing footnotes NG55, NG180, and NG181; and

iii. Adding footnotes NG457A and NG527A.

The revisions and additions read as follows:

§ 2.106 Table of Frequency Allocations.

* * * * *

BILLING CODE 6712-01-P

* * * * *

* * * * *

* * * * *

* * * * *

BILLING CODE 6712-01-C

* * * * *

International Footnotes

* * * * *

5.484B Resolution 155 (WRC-15) shall apply. (WRC-15)

* * * * *

5.527A The operation of earth stations in motion communicating with the FSS is subject to Resolution 156 (WRC-15). (WRC-15)

* * * * *

United States (US) Footnotes

* * * * *

US133 In the bands 14-14.2 GHz and 14.47-14.5 GHz, the following provisions shall apply to the operations of Earth Stations Aboard Aircraft (ESAA):

(a) In the band 14-14.2 GHz, ESAA licensees proposing to operate within radio line-of-sight of the coordinates specified in 47 CFR 25.228(j)(1) are subject to prior coordination with NTIA in order to minimize harmful interference to the ground terminals of NASA's Tracking and Data Relay Satellite System (TDRSS).

(b) In the band 14.47-14.5 GHz, operations within radio line-of-sight of the radio astronomy stations specified in 47 CFR 25.228(j)(3) are subject to coordination with the National Science Foundation in accordance with the requirements set forth in that rule section.

* * * * *

Non-Federal Government (NG) Footnotes

* * * * *

NG52 Except as provided for by NG527A, use of the bands 10.7-11.7 GHz (space-to-Earth) and 12.75-13.25 GHz (Earth-to-space) by geostationary satellites in the fixed-satellite service shall be limited to international systems, i.e., other than domestic systems.

* * * * *

NG457A Earth stations on vessels (ESVs), as regulated under 47 CFR part 25, are an application of the fixed-satellite service and the following provisions shall apply:

(a) In the band 3700-4200 MHz (space-to-Earth), ESVs may be authorized to communicate with geostationary satellites and, while docked, may be coordinated for up to 180 days, renewable. ESVs in motion are subject to the condition that these earth stations may not claim protection from transmissions of non-Federal stations in the fixed service.

(b) In the band 5925-6425 MHz (Earth-to-space), ESVs may be authorized to communicate with geostationary satellites on a primary basis.

* * * * *

NG527A Earth Stations in Motion (ESIMs), as regulated under 47 CFR part 25, are an application of the fixed-satellite service (FSS) and the following provisions shall apply:

(a) In the bands 10.95-11.2 GHz (space-to-Earth) and 11.45-11.7 GHz (space-to-Earth), ESIMs may be authorized to communicate with geostationary satellites, subject to the condition that these earth stations may not claim protection from transmissions of non-Federal stations in the fixed service.

(b) In the bands 11.7-12.2 GHz (space-to-Earth), 14.0-14.5 GHz (Earth-to-space), 18.3-18.8 GHz (space-to-Earth), 19.7-20.2 GHz (space-to-Earth), 28.35-28.6 GHz (Earth-to-space), and 29.25-30.0 GHz (Earth-to-space), ESIMs may be authorized to communicate with geostationary satellites on a primary basis.

* * * * *

PART 25—SATELLITE COMMUNICATIONS

3. The authority citation for part 25 continues to read as follows:

Authority: 47 U.S.C. 154, 301, 302, 303, 307, 309, 310, 319, 332, 605, and 721, unless otherwise noted.

4. Amend § 25.103 by:

a. Revising the definition of “Blanket license”;

b. Removing the definition of “Earth Stations Aboard Aircraft (ESAA)” and adding in its place a definition for “Earth Station Aboard Aircraft (ESAA)”;

b. Adding definitions in alphabetical order for “Earth Station in Motion (ESIM)” and “Network Control and Monitoring Center”; and

c. Revising the definitions of “Routine processing or licensing”, “Two-degree compliant space station”, and “Vehicle-Mounted Earth Station (VMES)”.

The revisions and additions read as follows:

§ 25.103 Definitions.

* * * * *

Blanket license. A license for:

(1) Multiple earth stations in the FSS or MSS, or for SDARS terrestrial repeaters, that may be operated anywhere within a geographic area specified in the license; or

(2) For multiple space stations in non-geostationary-orbit.

* * * * *

Earth Station Aboard Aircraft (ESAA). An earth station operating aboard an aircraft that receives from and transmits to geostationary-orbit Fixed-Satellite Service space stations.

* * * * *

Earth Station in Motion (ESIM). A term that collectively designates ESV, VMES and ESAA earth stations, as defined in this section.

* * * * *

Network Control and Monitoring Center (NCMC). An NCMC, as used in Part 25, is a facility that has the capability to remotely control earth stations operating as part of a satellite network or system.

* * * * *

Routine processing or licensing. Expedited processing of unopposed applications for earth stations in the FSS communicating with GSO space stations that satisfy the criteria in § 25.211(d), § 25.212(c), § 25.212(d), § 25.212(e), § 25.212(f), § 25.218, or § 25.223(b), include all required information, are consistent with all Commission rules, and do not raise any policy issues. Some, but not all, routine earth station applications are eligible for an autogrant procedure under § 25.115(a)(3).

* * * * *

Two-degree-compliant space station. A GSO FSS space station operating in the conventional or extended C-bands, the conventional or extended Ku-bands, or the conventional Ka-band within the limits on downlink EIRP density or PFD specified in § 25.140(a)(3) and communicating only with earth stations operating in conformance with routine uplink parameters specified in § 25.211(d), § 25.212(c), (d), (e), or (f), or § 25.218.

Vehicle-Mounted Earth Station (VMES). An earth station, operating from a motorized vehicle that travels primarily on land, that receives from and transmits to geostationary orbit Fixed-Satellite Service space stations and operates within the United States.

5. Amend § 25.115 by:

a. Revising paragraphs (a)(1) and (a)(2)(iii);

b. Removing and reserving paragraph (a)(4);

c. Adding paragraphs (a)(5) through (10);

d. Revising paragraphs (b), (c)(1), (c)(2)(i)(A), (c)(3)(i)(B), (c)(3)(ii), (e)(1), (g)(1)(vii), and (k); and

e. Adding paragraphs (l), (m), and (n).

The revisions and additions read as follows:

§ 25.115 Applications for earth station authorizations.

(a)(1) Transmitting earth stations. Commission authorization must be obtained for authority to operate a transmitting earth station. Applications for transmitting earth stations must be filed electronically through the International Bureau Filing System (IBFS) in accordance with the applicable provisions of part 1, subpart Y of this chapter. Applications must be filed electronically on FCC Form 312, Main Form and Schedule B, and include the information specified in this section, except as set forth in paragraph (a)(2) of this section.

(2) * * *

(iii) The application meets all relevant criteria in § 25.211 or § 25.212 or includes information filed pursuant to paragraph (g)(1) of this section indicating that off-axis EIRP density from the proposed earth stations will not exceed relevant levels specified in § 25.218; and

* * * * *

(5) Applicants that are not permitted to submit applications under paragraph (a)(2) of this section on Form 312EZ, must submit, as an attachment to their application, the following information to be used as an “informative” in the public notice issued under § 25.151:

(i) A detailed description of the service to be provided, including frequency bands and satellites to be used. The applicant must identify either the specific satellite(s) with which it plans to operate, or the eastern and western boundaries of the arc it plans to coordinate.

(ii) The diameter or equivalent diameter of the antenna.

(iii) Proposed power and power density levels.

(iv) Identification of any random access technique, if applicable.

(v) Identification of a specific rule or rules for which a waiver is requested.

(6)(i) Applicants for earth stations transmitting in frequency bands shared with equal rights between terrestrial and space services must provide a frequency coordination analysis in accordance with § 25.203(b) and must include any notification or demonstration required by any other relevant provision in § 25.203.

(ii) Applicants for user transceiver units associated with the NVNG MSS must provide the information required by § 25.135.

(iii) Applicants for 1.6/2.4 GHz MSS user transceivers must demonstrate that the transceivers will operate in compliance with relevant requirements in § 25.213.

(iv) Applicants for earth stations licensed in accordance with § 25.136 must demonstrate that the transmitting earth stations will meet the relevant criteria specified in that section, including any showings required under § 25.136(a)(4), (c), (d)(4), and/or (e)(4).

(7) In those cases where an applicant is filing a number of essentially similar applications, showings of a general nature applicable to all of the proposed stations may be submitted in the initial application and incorporated by reference in subsequent applications.

(8) Transmissions of signals or programming to non-U.S. licensed satellites, and to and/or from foreign points by means of U.S.-licensed fixed satellites may be subject to restrictions as a result of international agreements or treaties. The Commission will maintain public information on the status of any such agreements.

(9) Applicants seeking to operate in a shared government/non-government band must provide the half-power beam width of their proposed earth station antenna, as an attachment to their applications.

(10) With the exception of applications for blanket-licensed earth station networks filed pursuant to § 25.115(c) or § 25.218; applications for conventional Ka-band hub stations filed pursuant to § 25.115(e); applications for NGSO FSS gateway earth stations filed pursuant to § 25.115(f); applications for individually licensed earth stations filed pursuant to § 25.136; applications for ESIMs filed pursuant to § 25.115(l), § 25.115(m), or § 25.115(n); or applications for 29 GHz NGSO MSS feeder-link stations in a complex as defined in § 25.257, parties may apply, either in an initial application or an application for modification of license, for operating authority for multiple transmitting FSS earth stations that are not eligible for blanket or network licensing under another section of this part in the following circumstances:

(i) The antennas would transmit in frequency bands shared with terrestrial services on a co-primary basis and the antennas would be sited within an area bounded by 1 second of latitude and 1 second of longitude.

(ii) The antennas would transmit in frequency bands allocated to FSS on a primary basis and there is no co-primary allocation for terrestrial services, and the antennas would be sited within an area bounded by 10 seconds of latitude and 10 seconds of longitude.

(b) Receive-only earth stations. Except as provided in paragraphs (b)(1) and (8) of this section, applications for licenses for receive-only earth stations must be submitted on FCC Form 312, Main Form and Schedule B, accompanied by any required exhibits and the information described in paragraphs (a)(5)(i) through (v) of this section. Such applications must be filed electronically through the International Bureau Filing System (IBFS) in accordance with the applicable provisions of part 1, subpart Y of this chapter.

(1) Receive-only earth stations in the FSS that operate with U.S.-licensed space stations, or with non-U.S.-licensed space stations that have been duly approved for U.S. market access, may be registered with the Commission in order to protect them from interference from terrestrial microwave stations in bands shared co-equally with the Fixed Service in accordance with the procedures of §§ 25.203 and 25.251, subject to the stricture in § 25.209(c).

(2) Licensing or registration of receive-only earth stations with the Commission confers no authority to receive and use signals or programming received from satellites. See Section 705 of the Communications Act. 47 U.S.C. 605.

(3) Applications for registration must be accompanied by the coordination exhibit required by § 25.203 and any other required exhibits.

(4) Complete applications for registration will be placed on public notice for 30 days and automatically granted if no objection is submitted to the Commission and served on the applicant. Additional pleadings are authorized in accordance with § 1.45 of this chapter.

(5) The registration of a receive-only earth station results in the listing of an authorized frequency band at the location specified in the registration. Interference protection levels are those agreed to during coordination.

(6) Reception of signals or programming from non-U.S. satellites may be subject to restrictions as a result of international agreements or treaties. The Commission will maintain public information on the status of any such agreements.

(7) Registration term: Registrations for receive-only earth stations governed by this section will be issued for a period of 15 years from the date on which the application was filed. Applications for renewals of registrations must be submitted on FCC Form 312R (Application for Renewal of Radio Station License in Specified Services) no earlier than 90 days and no later than 30 days before the expiration date of the registration.

(8) Applications for modification of license or registration of receive-only earth stations must be made in conformance with §§ 25.117 and 25.118. In addition, registrants are required to notify the Commission when a receive-only earth station is no longer operational or when it has not been used to provide any service during any 6-month period.

(9)(i) Except as set forth in paragraph (b)(9)(ii) of this section, receive-only earth stations operating with non-U.S. licensed space stations must file an FCC Form 312 requesting a license or modification to operate such station.

(ii) Operators of receive-only earth stations need not apply for a license to receive transmissions from non-U.S.-licensed space stations that have been duly approved for U.S. market access, provided the space station operator and earth station operator comply with all applicable rules in this chapter and with applicable conditions in the Permitted Space Station List or market-access grant.

(c) * * *

(2) * * *

(i) * * *

(A) No more than three geostationary satellites to be accessed;

* * * * *

(3) * * *

(i) * * *

(B) The application includes information filed pursuant to paragraph (g)(1) of this section indicating that off-axis EIRP density from the proposed earth stations will not exceed relevant routine levels specified in § 25.218(i).

(ii) Applications to license networks of earth stations operating in the 28.35-28.6 GHz and/or 29.25-30.0 GHz bands under blanket operating authority that do not meet the requirements of § 25.212(e) or § 25.218(i) must comply with the requirements in § 25.220 and must be filed on FCC Form 312 with a Schedule B for each large (5 meters or larger) hub station antenna and each representative type of small antenna (less than 5 meters) operating within the network.

* * * * *

(e)(1) An application for a GSO FSS earth station license in the 17.8-19.4 GHz, 19.6-20.2 GHz, 27.5-29.1 GHz, or 29.25-30 GHz bands not filed on FCC Form 312EZ pursuant to paragraph (a)(2) of this section must be filed on FCC Form 312, Main Form and Schedule B, and must include any information required by paragraphs (a)(5) through (10) or (g) or (j) of this section.

* * * * *

(g) * * *

(1) * * *

(vii) The relevant off-axis EIRP density envelopes in § 25.218 or § 25.223 must be superimposed on plots submitted pursuant to paragraphs (g)(1)(i) through (vi) of this section.

* * * * *

(k)(1) Applicants for FSS earth stations that qualify for routine processing in the conventional or extended C-bands, the conventional or extended Ku-bands, the conventional Ka-band, or the 24.75-25.25 GHz band, including ESV applications filed pursuant to paragraph (m)(1) or (n)(1) of this section, VMES applications filed pursuant to paragraph (m)(1) or (n)(1) of this section, and ESAA applications filed pursuant to paragraph (m)(1) or (n)(1) of this section, may designate the Permitted Space Station List as a point of communication. Once such an application is granted, the earth station operator may communicate with any space station on the Permitted Space Station List, provided that the operation is consistent with the technical parameters and conditions in the earth station license and any limitations placed on the space station authorization or noted in the Permitted Space Station List.

(2) Notwithstanding paragraph (k)(1) of this section, an earth station that would receive signals in the 17.8-20.2 GHz band may not communicate with a space station on the Permitted Space Station List in that band until the space station operator has completed coordination under Footnote US334 to § 2.106 of this chapter.

(l) The requirements of this paragraph apply to applications for ESV operation in the 5925-6425 MHz (Earth-to-space) band with GSO satellites in the Fixed-Satellite Service, in addition to the requirements in paragraphs (a)(1), (5), (6), and (i) of this section:

(1) Applications where any necessary frequency coordination has been satisfactorily completed, and the proposed earth station transmissions comport with the applicable provisions in § 25.212(d) or the applicable off-axis EIRP density limits in § 25.218(d) will be routinely processed. Such applications must include the relevant information specified by paragraph (g) of this section. Applicants for ESIMs operating in a network using variable power density control of earth stations transmitting simultaneously in shared frequencies to the same target satellite receiving beam must also provide the certification required by § 25.212(g) or § 25.218(d)(4), whichever is applicable.

(2) Applications where the proposed earth station transmissions do not comport with the applicable provisions in § 25.212(d) or the applicable off-axis EIRP density limits in § 25.218(d) must include the information specified by paragraph (g)(1) of this section, and are subject to the requirements of § 25.220.

(3) Applications must include the following information:

(i) ESIM applicants that meet the relevant off-axis EIRP density mask must certify that an individual ESIM terminal is self-monitoring and capable of automatically ceasing or reducing emissions within 100 milliseconds if the ESIM transmitter exceeds the relevant off-axis EIRP density limits. ESIM applicants that do not meet the relevant off-axis EIRP density mask must provide a detailed showing that an individual ESIM terminal is self-monitoring and capable of automatically ceasing or reducing emissions within 100 milliseconds if the ESIM transmitter exceeds the relevant off-axis EIRP density limits. Variable-power ESIM applicants must certify that one or more transmitters are capable of automatically ceasing or reducing emissions within 100 milliseconds of receiving a command to do so from the system's network control and monitoring center, if the aggregate off axis EIRP densities of the transmitter or transmitters exceed the relevant off-axis EIRP density limits.

(ii) An exhibit describing the geographic area(s) in which the ESVs will operate.

(iii) The point of contact information referred to in § 25.228(e)(2).

(iv) Applicants for ESVs that will exceed the guidelines in § 1.1310 of this chapter for radio frequency radiation exposure must provide, with their environmental assessment, a plan for mitigation of radiation exposure to the extent required to meet those guidelines.

(m) The requirements of this paragraph apply to applications for ESIM operation in the 14.0-14.5 GHz (Earth-to-space) band with GSO satellites in the Fixed-Satellite Service, in addition to the requirements in paragraphs (a)(1) and (5) and (i) of this section:

(1) Applications where any necessary frequency coordination has been satisfactorily completed, and the proposed earth station transmissions comport with the applicable provisions in § 25.212(c)(2) or the applicable off-axis EIRP density limits in § 25.218(f) will be routinely processed. Such applications must include the relevant information specified by paragraph (g) of this section. Applicants for ESIMs operating in a network using variable power density control of earth stations transmitting simultaneously in shared frequencies to the same target satellite receiving beam must also provide the certification required by § 25.212(g) or § 25.218(f)(4), whichever is applicable.

(2) Applications where the proposed earth station transmissions do not comport with the applicable provisions in § 25.212(c)(2) or the applicable off-axis EIRP density limits in § 25.218(f) must include the information specified by paragraph (g)(1) of this section, and are subject to the requirements of § 25.220.

(3) Applications must include the following information:

(i) ESIM applicants that meet the relevant off-axis EIRP density mask must certify that an individual ESIM terminal is self-monitoring and capable of automatically ceasing or reducing emissions within 100 milliseconds if the ESIM transmitter exceeds the relevant off-axis EIRP density limits. ESIM applicants that do not meet the relevant off-axis EIRP density mask must provide a detailed showing that an individual ESIM terminal is self-monitoring and capable of automatically ceasing or reducing emissions within 100 milliseconds if the ESIM transmitter exceeds the relevant off-axis EIRP density limits. Variable-power ESIM applicants must certify that one or more transmitters are capable of automatically ceasing or reducing emissions within 100 milliseconds of receiving a command to do so from the system's network control and monitoring center, if the aggregate off axis EIRP densities of the transmitter or transmitters exceed the relevant off-axis EIRP density limits.

(ii) An exhibit describing the geographic area(s) in which the ESIMs will operate.

(iii) The point of contact information referred to in § 25.228(e)(2), (f), or (g)(1) as appropriate.

(iv) Applicants for ESIMs that will exceed the guidelines in § 1.1310 of this chapter for radio frequency radiation exposure must provide, with their environmental assessment, a plan for mitigation of radiation exposure to the extent required to meet those guidelines.

(n) The requirements of this paragraph apply to applications for ESIM operation in the 28.35-28.6 GHz or 29.25-30.0 GHz (Earth-to-space) band with GSO satellites in the Fixed-Satellite Service, in addition to the requirements in paragraphs (a)(1) and (5) and (i) of this section:

(1) Applications where any necessary frequency coordination has been satisfactorily completed, and the proposed earth station transmissions comport with the applicable provisions in § 25.212(e) or the applicable off-axis EIRP density limits in § 25.218(i) will be routinely processed. Such applications must include the relevant information specified by paragraph (g) of this section. Applicants for ESIMs operating in a network using variable power density control of earth stations transmitting simultaneously in shared frequencies to the same target satellite receiving beam must also provide the certification required by § 25.212(g) or § 25.218(i)(5), whichever is applicable.

(2) Applications where the proposed earth station transmissions do not comport with the applicable provisions in § 25.212(e) or the applicable off-axis EIRP density limits in § 25.218(i) must include the information specified by paragraph (g)(1) of this section, and are subject to the requirements of § 25.220.

(3) Applications must include the following information:

(i) ESIM applicants that meet the relevant off-axis EIRP density mask must certify that an individual ESIM terminal is self-monitoring and capable of automatically ceasing or reducing emissions within 100 milliseconds if the ESIM transmitter exceeds the relevant off-axis EIRP density limits. ESIM applicants that do not meet the relevant off-axis EIRP density mask must provide a detailed showing that an individual ESIM terminal is self-monitoring and capable of automatically ceasing or reducing emissions within 100 milliseconds if the ESIM transmitter exceeds the relevant off-axis EIRP density limits. Variable-power ESIM applicants must certify that one or more transmitters are capable of automatically ceasing or reducing emissions within 100 milliseconds of receiving a command to do so from the system's network control and monitoring center, if the aggregate off axis EIRP densities of the transmitter or transmitters exceed the relevant off-axis EIRP density limits.

(ii) An exhibit describing the geographic area(s) in which the ESIMs will operate.

(iii) The point of contact information referred to in § 25.228(e)(2), (f), or (g)(1) as appropriate.

(iv) Applicants for ESIMs that will exceed the guidelines in § 1.1310 of this chapter for radio frequency radiation exposure must provide, with their environmental assessment, a plan for mitigation of radiation exposure to the extent required to meet those guidelines.

6. Amend § 25.129 by revising paragraph (c) to read as follows:

§ 25.129 Equipment authorization for portable earth-station transceivers.

* * * * *

(c) In addition to the information required by §§ 1.1307(b) and 2.1033(c) of this chapter, applicants for certification required by this section must submit any additional equipment test data necessary to demonstrate compliance with pertinent standards for transmitter performance prescribed in §§ 25.202(f), and 25.216, must submit the statements required by § 2.1093(c) of this chapter, and must demonstrate compliance with the labeling requirement in § 25.285(b).

* * * * *

§ 25.130 [Removed and Reserved]

7. Remove and reserve § 25.130.

§ 25.131 [Removed and Reserved]

8. Remove and reserve § 25.131.

9. Amend § 25.132 by revising paragraph (d) introductory text to read as follows:

§ 25.132 Verification of earth station antenna performance.

* * * * *

(d) For each new or modified transmitting antenna over 3 meters in diameter, the following on-site verification measurements must be completed at one frequency on an available transponder in each frequency band of interest and submitted to the Commission.

* * * * *

10. Amend § 25.133 by revising paragraph (d) to read as follows:

§ 25.133 Period of construction; certification of commencement of operation.

* * * * *

(d) Each receiving earth station licensed or registered pursuant to § 25.115(b) must be constructed and placed into service within 6 months after coordination has been completed. Each licensee or registrant must file with the Commission a certification that the facility is completed and operating as provided in paragraph (b) of this section, with the exception of certification of antenna patterns.

§ 25.138 [Removed and Reserved]

11. Remove and reserve § 25.138.

12. Amend § 25.140 by revising paragraphs (a)(3)(i) through (iii) and (d)(1) to read as follows:

§ 25.140 Further requirements for license applications for GSO space station operation in the FSS and the 17/24 GHz BSS.

(a) * * *

(3) * * *

(i) With respect to proposed operation in the conventional or extended C-bands, a certification that downlink EIRP density will not exceed 3 dBW/4kHz for digital transmissions or 8 dBW/4kHz for analog transmissions and that associated uplink operation will not exceed applicable EIRP density envelopes in § 25.218 unless the non-routine uplink and/or downlink operation is coordinated with operators of authorized co-frequency space stations at assigned locations within six degrees of the orbital location of the proposed space station and except as provided in paragraph (d) of this section.

(ii) With respect to proposed operation in the conventional or extended Ku-bands, a certification that downlink EIRP density will not exceed 14 dBW/4kHz for digital transmissions or 17 dBW/4kHz for analog transmissions and that associated uplink operation will not exceed applicable EIRP density envelopes in § 25.218 unless the non-routine uplink and/or downlink operation is coordinated with operators of authorized co-frequency space stations at assigned locations within six degrees of the orbital location of the proposed space station and except as provided in paragraph (d) of this section.

(iii) With respect to proposed operation in the conventional Ka-band, a certification that the proposed space station will not generate power flux-density at the Earth's surface in excess of −118 dBW/m²/MHz and that associated uplink operation will not exceed applicable EIRP density envelopes in § 25.218(i) unless the non-routine uplink and/or downlink operation is coordinated with operators of authorized co-frequency space stations at assigned locations within six degrees of the orbital location and except as provided in paragraph (d) of this section.

* * * * *

(d) * * *

(1) The letter notification must include the downlink off-axis EIRP density levels or power flux density levels and/or uplink off-axis EIRP density levels, specified per frequency range and space station antenna beam, that exceed the relevant routine limits set forth in paragraphs (a)(3)(i) through (iii) of this section and § 25.218.

* * * * *

13. Amend § 25.202 by revising paragraphs (a)(8), (10), and (11) to read as follows:

§ 25.202 Frequencies, frequency tolerance, and emission limits.

(a) * * *

(8) The following frequencies are available for use by ESVs:

3700-4200 MHz (space-to-Earth)

5925-6425 MHz (Earth-to-space)

10.95-11.2 GHz (space-to-Earth)

11.45-11.7 GHz (space-to-Earth)

11.7-12.2 GHz (space-to-Earth)

14.0-14.5 GHz (Earth-to-space)

18.3-18.8 GHz (space-to-Earth)

19.7-20.2 GHz (space-to-Earth)

28.35-28.6 GHz (Earth-to-space)

29.25-30.0 GHz (Earth-to-space)

* * * * *

(10) The following frequencies are available for use by Vehicle-Mounted Earth Stations (VMESs):

10.95-11.2 GHz (space-to-Earth)

11.45-11.7 GHz (space-to-Earth)

11.7-12.2 GHz (space-to-Earth)

14.0-14.5 GHz (Earth-to-space)

18.3-18.8 GHz (space-to-Earth)

19.7-20.2 GHz (space-to-Earth)

28.35-28.6 GHz (Earth-to-space)

29.25-30.0 GHz (Earth-to-space)

(11) The following frequencies are available for use by Earth Stations Aboard Aircraft (ESAAs):

10.95-11.2 GHz (space-to-Earth)

11.45-11.7 GHz (space-to-Earth)

11.7-12.2 GHz (space-to-Earth)

14.0-14.5 GHz (Earth-to-space)

18.3-18.8 GHz (space-to-Earth)

19.7-20.2 GHz (space-to-Earth)

28.35-28.6 GHz (Earth-to-space)

29.25-30.0 GHz (Earth-to-space)

* * * * *

14. Amend § 25.204 by revising paragraph (e)(3) and removing paragraphs (h) through (k).

The revision reads as follows:

§ 25.204 Power limits for earth stations.

* * * * *

(e) * * *

(3) FSS earth stations transmitting to geostationary space stations in the 28.35-28.6 GHz and/or 29.25-30.0 GHz bands may employ uplink adaptive power control or other methods of fade compensation. For stations employing uplink power control, the values in § 25.218(i)(1), (2), and (4) may be exceeded by up to 20 dB under conditions of uplink fading due to precipitation. The amount of such increase in excess of the actual amount of monitored excess attenuation over clear sky propagation conditions must not exceed 1.5 dB or 15 percent of the actual amount of monitored excess attenuation in dB, whichever is larger, with a confidence level of 90 percent except over transient periods accounting for no more than 0.5 percent of the time during which the excess is no more than 4.0 dB.

* * * * *

15. Amend § 25.209 by revising paragraphs (c)(1) and (f) to read as follows:

§ 25.209 Earth station antenna performance standards.

* * * * *

(c)(1) An earth station licensed for operation with a GSO FSS space station or registered for reception of transmissions from such a space station pursuant to § 25.115(b)(1) and (b)(3) is not entitled to protection from interference from authorized operation of other stations that would not cause harmful interference to that earth station if it were using an antenna with receive-band gain patterns conforming to the levels specified in paragraphs (a) and (b) of this section.

* * * * *

(f) A GSO FSS earth station with an antenna that does not conform to the applicable standards in paragraphs (a) and (b) of this section will be authorized only if the applicant demonstrates that the antenna will not cause unacceptable interference. This demonstration must show that the transmissions of the earth station comport with the requirements in § 25.218 or § 25.223, or the applicant must demonstrate that the operations of the earth station have been coordinated under § 25.220.

* * * * *

16. Amend § 25.212 by revising paragraphs (c), (d), (g), and (h) to read as follows:

§ 25.212 Narrowband analog transmissions and digital transmissions in the GSO Fixed Satellite Service.

* * * * *

(c)(1) An earth station, other than an ESIM, may be routinely licensed for analog transmissions in the conventional Ku-band or the extended Ku-band with bandwidths up to 200 kHz (or up to 1 MHz for command carriers at the band edge) if the input power spectral density into the antenna will not exceed −8 dBW/4 kHz, and the application includes certification pursuant to § 25.132(a)(1) of conformance with the antenna gain performance requirements in § 25.209(a) and (b).

(2) An earth station may be routinely licensed for digital transmission, including digital video transmission, in the conventional Ku-band, or, except for an ESIM, in the extended Ku-band, if input power spectral density into the antenna will not exceed −14 dBW/4 kHz and the application includes certification pursuant to § 25.132(a)(1) of conformance with the antenna gain performance requirements in § 25.209(a) and (b).

(d) An individual earth station may be routinely licensed for digital transmission in the conventional C-band or, except for an ESIM, in the extended C-band, if the applicant certifies conformance with relevant antenna performance standards in § 25.209(a) and (b), and power density into the antenna will not exceed −2.7 dBW/4 kHz. An individual earth station, other than an ESIM, may be routinely licensed for analog transmission with carrier bandwidths up to 200 kHz (or up to 1 MHz for command carriers at the band edge) in the conventional C-band or the extended C-band, if the applicant certifies conformance with relevant antenna performance standards in § 25.209(a) and (b), and power density into the antenna will not exceed +0.5 dBW/4 kHz.

* * * * *

(g) A license application for earth station operation in a network using variable power density control of earth stations transmitting simultaneously in shared frequencies to the same target satellite receiving beam may be routinely processed if the applicant certifies that the aggregate off-axis EIRP density from all co-frequency earth stations transmitting simultaneously to the same target satellite receiving beam, not resulting from colliding data bursts transmitted pursuant to a contention protocol, will not exceed the applicable off-axis EIRP density limits permissible for a single earth station, as specified in § 25.218.

(h) Applications for authority for fixed earth station operation in the conventional C-band, the extended C-band, the conventional Ku-band, the extended Ku-band or the conventional Ka-band that do not qualify for routine processing under relevant criteria in this section, § 25.211, or § 25.218 are subject to the requirements in § 25.220.

17. Amend § 25.218 by revising paragraphs (a), (b), and (i) and adding paragraph (j) to read as follows:

§ 25.218 Off-axis EIRP density envelopes for FSS earth stations transmitting in certain frequency bands.

(a) This section applies to applications for fixed and temporary-fixed FSS earth stations transmitting to geostationary space stations in the conventional C-band, extended C-band, conventional Ku-band, extended Ku-band, or conventional Ka-band, and applications for ESIMs transmitting in the conventional C-band, conventional Ku-band, or conventional Ka-band, except for applications proposing transmission of analog command signals at a band edge with bandwidths greater than 1 MHz or transmission of any other type of analog signal with bandwidths greater than 200 kHz.

(b) Earth station applications subject to this section may be routinely processed if they meet the applicable off-axis EIRP density envelopes set forth in this section.

* * * * *

(i) Digital earth station operation in the conventional Ka-band. (1) For co-polarized transmissions in the plane tangent to the GSO arc:

32.5-25log(θ) | dBW/MHz | for | 2.0° ≤ θ ≤ 7°.
11.5 | dBW/MHz | for | 7° ≤ θ ≤ 9.2°.
35.5-25log(θ) | dBW/MHz | for | 9.2° ≤ θ ≤ 19.1°.
3.5 | dBW/MHz | for | 19.1° < θ ≤ 180°.

where θ is as defined in paragraph (c)(1) of this section.

(2) For co-polarized transmissions in the plane perpendicular to the GSO arc:

35.5-25log(θ) | dBW/MHz | for | 3.5° ≤ θ ≤ 7°.
14.4 | dBW/MHz | for | 7° < θ ≤ 9.2°.
38.5-25log(θ) | dBW/MHz | for | 9.2° < θ ≤ 19.1°.
6.5 | dBW/MHz | for | 19.1° < θ ≤ 180°.

where θ is as defined in paragraph (c)(1) of this section.

(3) The EIRP density levels specified in paragraphs (i)(1) and (2) of this section may be exceeded by up to 3 dB, for values of θ > 7°, over 10% of the range of theta (θ) angles from 7-180° on each side of the line from the earth station to the target satellite.

(4) For cross-polarized transmissions in the plane tangent to the GSO arc and in the plane perpendicular to the GSO arc:

22.5-25log(θ) | dBW/MHz | for | 2.0° < θ ≤ 7.0°.

where θ is as defined in paragraph (c)(1) of this section.

(5) A license application for earth station operation in a network using variable power density control of earth stations transmitting simultaneously in shared frequencies to the same target satellite receiving beam may be routinely processed if the applicant certifies that the aggregate off-axis EIRP density from all co-frequency earth stations transmitting simultaneously to the same target satellite receiving beam, not resulting from colliding data bursts transmitted pursuant to a contention protocol, will not exceed the off-axis EIRP density limits permissible for a single earth station, as specified in paragraphs (i)(1) through (4) of this section.

(j) Applications for authority for fixed earth station operation in the conventional C-band, extended C-band, conventional Ku-band, extended Ku-band, or conventional Ka-band that do not qualify for routine processing under relevant criteria in this section, § 25.211, or § 25.212 are subject to the requirements in § 25.220.

18. Amend § 25.220 by revising paragraph (a) to read as follows:

§ 25.220 Non-routine transmit/receive earth station operations.

(a) The requirements in this section apply to applications for, and operation of, earth stations transmitting in the conventional or extended C-bands, the conventional or extended Ku-bands, or the conventional Ka-band that do not qualify for routine licensing under relevant criteria in § 25.211, § 25.212, or § 25.218.

* * * * *

§ 25.221 [Removed and Reserved]

19. Remove and reserve § 25.221.

§ 25.222 [Removed and Reserved]

20. Remove and reserve § 25.222.

§ 25.226 [Removed and Reserved]

21. Remove and reserve § 25.226.

§ 25.227 [Removed and Reserved]

22. Remove and reserve § 25.227.

23. Add § 25.228 to read as follows:

§ 25.228 Operating and coordination requirements for earth stations in motion (ESIMs).

(a) ESIM transmissions must comport with the applicable EIRP density limits in § 25.218, unless coordinated pursuant to the requirements in § 25.220.

(b) Each ESIM must be self-monitoring and, should a condition occur that would cause the ESIM to exceed its authorized off-axis EIRP density limits, the ESIM must automatically cease transmissions within 100 milliseconds, and not resume transmissions until the condition that caused the ESIM to exceed those limits is corrected.

(c) Each ESIM must be monitored and controlled by a network control and monitoring center (NCMC) or equivalent facility. Each ESIM must comply with a “disable transmission” command from the NCMC within 100 milliseconds of receiving the command. In addition, the NCMC must monitor the operation of each ESIM in its network, and transmit a “disable transmission” command to any ESIM that operates in such a way as to exceed the authorized off-axis EIRP density limit for that ESIM or for all ESIMs that simultaneously transmit on the same frequency to the same target satellite receiving beam. The NCMC must not allow the ESIM(s) under its control to resume transmissions until the condition that caused the ESIM(s) to exceed the authorized EIRP density limits is corrected.

(d) ESIM licensees must ensure installation of ESIM terminals on vehicles by qualified installers who have an understanding of the antenna's radiation environment and the measures best suited to maximize protection of the general public and persons operating the vehicle and equipment. An ESIM terminal exhibiting radiation exposure levels exceeding 1.0 mW/cm² in accessible areas, such as at the exterior surface of the radome, must have a label attached to the surface of the terminal warning about the radiation hazard and must include thereon a diagram showing the regions around the terminal where the radiation levels could exceed the maximum radiation exposure limit specified in 47 CFR 1.1310 Table 1.

(e) The following requirements govern all ESV operations:

(1) ESV operators must control all ESVs by a NCMC located in the United States, except that an ESV on U.S.-registered vessels may operate under control of a NCMC location outside the United States provided the ESV operator maintains a point of contact within the United States that will have the capability and authority to cause an ESV on a U.S.-registered vessel to cease transmitting if necessary.

(2) There must be a point of contact in the United States, with phone number and address, available 24 hours a day, seven days a week, with authority and ability to cease all emissions from the ESVs, either directly or through the facilities of a U.S. NCMC or a NCMC located in another country with which the United States has a bilateral agreement that enables such cessation of emissions.

(3) ESV NCMC operators communicating with ESVs on vessels of foreign registry must maintain detailed information on each such vessel's country of registry and a point of contact for the relevant administration responsible for licensing those ESVs.

(f) For all VMES operations, there must be a point of contact in the United States, with phone number and address, available 24 hours a day, seven days a week, with authority and ability to cease all emissions from the VMESs.

(g) The following requirements govern all ESAA operations:

(1) There must be a point of contact in the United States, with phone number and address, available 24 hours a day, seven days a week, with authority and ability to cease all emissions from the ESAAs.

(2) All ESAA terminals operated in U.S. airspace, whether on U.S.-registered civil aircraft or non-U.S.-registered civil aircraft, must be licensed by the Commission. All ESAA terminals on U.S.-registered civil aircraft operating outside of U.S. airspace must be licensed by the Commission, except as provided by section 303(t) of the Communications Act.

(3) Prior to operations within a foreign nation's airspace, the ESAA operator must ascertain whether the relevant administration has operations that could be affected by ESAA terminals, and must determine whether that administration has adopted specific requirements concerning ESAA operations. When the aircraft enters foreign airspace, the ESAA terminal must operate under the Commission's rules, or those of the foreign administration, whichever is more constraining. To the extent that all relevant administrations have identified geographic areas from which ESAA operations would not affect their radio operations, ESAA operators may operate within those identified areas without further action. To the extent that the foreign administration has not adopted requirements regarding ESAA operations, ESAA operators must coordinate their operations with any potentially affected operations.

(h) The following requirements govern all operations in the 3700-4200 MHz (space-to-Earth) and 5925-6425 MHz (Earth-to-space) frequency bands of ESVs receiving from or transmitting to GSO satellites in the Fixed-Satellite Service:

(1) ESVs must not operate in the 5925-6425 MHz (Earth-to-space) and 3700-4200 MHz (space-to-Earth) frequency bands on vessels smaller than 300 gross tons.

(2) ESV operators transmitting in the 5925-6425 MHz (Earth-to-space) frequency band to GSO satellites in the Fixed-Satellite Service (FSS) must not seek to coordinate, in any geographic location, more than 36 megahertz of uplink bandwidth on each of no more than two GSO FSS satellites.

(3) ESVs, operating while docked, for which coordination with terrestrial stations in the 3700-4200 MHz band is completed in accordance with § 25.251, will receive protection from such terrestrial stations in accordance with the coordination agreements, for 180 days, renewable for 180 days.

(4) ESVs in motion must not claim protection from harmful interference from any authorized terrestrial stations to which frequencies are already assigned, or any authorized terrestrial station to which frequencies may be assigned in the future in the 3700-4200 MHz (space-to-Earth) frequency band.

(5) ESVs operating within 200 km from the baseline of the United States, or within 200 km from a U.S.-licensed fixed service offshore installation, must complete coordination with potentially affected U.S.-licensed fixed service operators prior to operation. The coordination method and the interference criteria objective will be determined by the frequency coordinator. The details of the coordination must be maintained and available at the frequency coordinator, and must be filed with the Commission electronically via the International Bureau Filing System (http://licensing.fcc.gov/myibfs/) to be placed on public notice. The coordination notifications must be filed in the form of a statement referencing the relevant call signs and file numbers. Operation of each individual ESV may commence immediately after the public notice that identifies the notification sent to the Commission is released. Continuance of operation of that ESV for the duration of the coordination term must be dependent upon successful completion of the normal public notice process. If, prior to the end of the 30-day comment period of the public notice, any objections are received from U.S.-licensed Fixed Service operators that have been excluded from coordination, the ESV licensee must immediately cease operation of that particular station on frequencies used by the affected U.S.-licensed Fixed Service station until the coordination dispute is resolved and the ESV licensee informs the Commission of the resolution. As used in this section, “baseline” means the line from which maritime zones are measured. The baseline is a combination of the low-water line and closing lines across the mouths of inland water bodies and is defined by a series of baseline points that include islands and “low-water elevations,” as determined by the U.S. Department of State's Baseline Committee.

(6) An ESV must automatically cease transmission if the ESV operates in violation of the terms of its coordination agreement, including, but not limited to, conditions related to speed of the vessel or if the ESV travels outside the coordinated area, if within 200 km from the baseline of the United States, or within 200 km from a U.S.-licensed fixed service offshore installation. Transmissions may be controlled by the ESV network control and monitoring center. The frequency coordinator may decide whether ESV operators should automatically cease transmissions if the vessel falls below a prescribed speed within a prescribed geographic area.

(7) ESV transmissions in the 5925-6425 MHz (Earth-to-space) band shall not exceed an EIRP spectral density towards the radio-horizon of 17 dBW/MHz, and shall not exceed an EIRP towards the radio-horizon of 20.8 dBW. The ESV network shall shut-off the ESV transmitter if either the EIRP spectral density towards the radio-horizon or the EIRP towards the radio-horizon is exceeded.

(i) For ESAA transmissions in the 14.0-14.5 GHz band from international airspace within line-of-sight of the territory of a foreign administration where fixed service networks have primary allocation in this band, the maximum power flux density (pfd) produced at the surface of the Earth by emissions from a single aircraft carrying an ESAA terminal must not exceed the following values unless the foreign Administration has imposed other conditions for protecting its fixed service stations:

−132 + 0.5 · θ | dB(W/(m² · MHz)) | For | θ ≤ 40°.
−112 | dB(W/(m² · MHz)) | For | 40° <θ ≤90°.

Where: θ is the angle of arrival of the radio-frequency wave (degrees above the horizontal) and the aforementioned limits relate to the pfd under free-space propagation conditions.

(j) The following requirements govern all ESIMs transmitting to GSO satellites in the Fixed-Satellite Service in the 14.0-14.5 GHz band:

(1) Operations of ESIMs in the 14.0-14.2 GHz (Earth-to-space) frequency band within 125 km (for ESVs and VMESs) or within radio line of sight (for ESAAs) of the NASA TDRSS facilities on Guam (latitude 13°36′55″ N, longitude 144°51′22″ E), White Sands, New Mexico (latitude 32°20′59″ N, longitude 106°36′31″ W and latitude 32°32′40″ N, longitude 106°36′48″ W), or Blossom Point, Maryland (latitude 38°25′44″ N, longitude 77°05′02″ W) are subject to coordination with the National Aeronautics and Space Administration (NASA) through the National Telecommunications and Information Administration (NTIA) Interdepartment Radio Advisory Committee (IRAC). Licensees must notify the International Bureau once they have completed coordination. Upon receipt of such notification from a licensee, the International Bureau will issue a public notice stating that the licensee may commence operations within the coordination zone in 30 days if no party has opposed the operations. When NTIA seeks to provide similar protection to future TDRSS sites that have been coordinated through the IRAC Frequency Assignment Subcommittee process, NTIA will notify the Commission's International Bureau that the site is nearing operational status. Upon public notice from the International Bureau, all Ku-band ESIM licensees must cease operations in the 14.0-14.2 GHz band within 125 km (for ESVs and VMESs) or within radio line of sight (for ESAAs) of the new TDRSS site until the licensees complete coordination with NTIA/IRAC for the new TDRSS facility. Licensees must notify the International Bureau once they have completed coordination for the new TDRSS site. Upon receipt of such notification from a licensee, the International Bureau will issue a public notice stating that the licensee may commence operations within the coordination zone in 30 days if no party has opposed the operations. The ESIM licensee then will be permitted to commence operations in the 14.0-14.2 GHz band within 125 km (for ESVs and VMESs) or within radio line of sight (for ESAAs) of the new TDRSS site, subject to any operational constraints developed in the coordination process.

(2) Within 125 km (for ESVs and VMESs) or within radio line of sight (for ESAAs) of the NASA TDRSS facilities identified in paragraph (j)(1) of this section, ESIM transmissions in the 14.0-14.2 GHz (Earth-to-space) band shall not exceed an EIRP spectral density towards the horizon of 12.5 dBW/MHz, and shall not exceed an EIRP towards the horizon of 16.3 dBW.

(3) Operations of ESIMs in the 14.47-14.5 GHz (Earth-to-space) frequency band in the vicinity (for ESVs and VMESs) or within radio line of sight (for ESAAs) of radio astronomy service (RAS) observatories observing in the 14.47-14.5 GHz band are subject to coordination with the National Science Foundation (NSF). The appropriate NSF contact point to initiate coordination is Electromagnetic Spectrum Management Unit, NSF, Division of Astronomical Sciences, 2415 Eisenhower Avenue, Arlington VA 22314; Email: esm@nsf.gov. Licensees must notify the International Bureau once they have completed coordination. Upon receipt of the coordination agreement from a licensee, the International Bureau will issue a public notice stating that the licensee may commence operations within the coordination zone in 30 days if no party has opposed the operations. Table 1 provides a list of each applicable RAS site, its location, and the applicable coordination zone.

Table 1 to § 25.228(j)(3)—Applicable Radio Astronomy Service (RAS) Facilities and Associated Coordination Distances
Observatory | Latitude (north) | Longitude (west) | Radius (km) of coordination zone
Arecibo, Observatory, Arecibo, PR | 18°20′37″ | 66°45′11″ | Island of Puerto Rico.
Green Bank, WV | 38°25′59″ | 79°50′23″ | 160.
Very Large Array, near Socorro, NM | 34°04′44″ | 107°37′06″ | 160.
Pisgah Astronomical Research Institute, Rosman, NC | 35°11′59″ | 82°52′19″ | 160.
U of Michigan Radio Astronomy Observatory, Stinchfield Woods, MI | 42°23′56″ | 83°56′11″ | 160.
Very Long Baseline Array (VLBA) stations: |  |  |
Owens Valley, CA | 37°13′54″ | 118°16′37″ | 160 *.
Mauna Kea, HI | 19°48′05″ | 155°27′20″ | 50.
Brewster, WA | 48°07′52″ | 119°41′00″ | 50.
Kitt Peak, AZ | 31°57′23″ | 111°36′45″ | 50.
Pie Town, NM | 34°18′04″ | 108°07′09″ | 50.
Los Alamos, NM | 35°46′30″ | 106°14′44″ | 50.
Fort Davis, TX | 30°38′06″ | 103°56′41″ | 50.
North Liberty, IA | 41°46′17″ | 91°34′27″ | 50.
Hancock, NH | 42°56′01″ | 71°59′12″ | 50.
St. Croix, VI | 17°45′24″ | 64°35′01″ | 50.
* Owens Valley, CA operates both a VLBA station and single-dish telescopes.

(4) When NTIA seeks to provide similar protection to future RAS sites that have been coordinated through the IRAC Frequency Assignment Subcommittee process, NTIA will notify the Commission's International Bureau that the site is nearing operational status. Upon public notice from the International Bureau, all Ku-band ESIMs licensees must cease operations in the 14.47-14.5 GHz band within the relevant geographic zone (160 kms for single-dish radio observatories and Very Large Array antenna systems and 50 kms for Very Long Baseline Array antenna systems for ESVs and VMESs, radio line of sight for ESAAs) of the new RAS site until the licensees complete coordination for the new RAS facility. Licensees must notify the International Bureau once they have completed coordination for the new RAS site and must submit the coordination agreement to the Commission. Upon receipt of such notification from a licensee, the International Bureau will issue a public notice stating that the licensee may commence operations within the coordination zone in 30 days if no party opposed the operations. The ESIMs licensee then will be permitted to commence operations in the 14.47-14.5 GHz band within the relevant coordination distance around the new RAS site, subject to any operational constraints developed in the coordination process.

(5) ESIMs licensees must use Global Positioning Satellite-related or other similar position location technology to ensure compliance with the provisions of subparagraphs 1-3 of this paragraph.

24. Amend § 25.258 by revising paragraph (b) to read as follows:

§ 25.258 Sharing between NGSO MSS feeder-link stations and GSO FSS services in the 29.25-29.5 GHz band.

* * * * *

(b) Licensed GSO FSS earth stations in the vicinity of operational NGSO MSS feeder-link earth station complexes must, to the maximum extent possible, operate with frequency/polarization selections that will minimize unacceptable interference with reception of GSO FSS and NGSO MSS uplink transmissions in the 29.25-29.5 GHz band. Earth station licensees operating with GSO FSS systems shall be capable of providing earth station locations to support coordination of NGSO MSS feeder link stations under paragraphs (a) and (c) of this section. Operation of ubiquitously deployed GSO FSS earth stations in the 29.25-29.5 GHz frequency band must conform to the rules contained in § 25.218(i).

* * * * *

§ 25.287 [Amended]

25. Amend § 25.287 by removing paragraph (d).

26. Add § 25.290 to subpart D to read as follows:

§ 25.290 Responsibility of licensee for blanket-licensed earth station operation.

The holder of an FCC blanket earth station license is responsible for operation of any earth station under that license. Operators of satellite networks and systems must not transmit communications to or from such earth stations in the United States unless such communications are authorized under a service contract with the holder of a pertinent FCC blanket earth station license or under a service contract with another party with authority for such operation delegated by such a blanket licensee.

[FR Doc. 2019-19810 Filed 10-7-19; 8:45 am]

BILLING CODE 6712-01-P